DEPARTMENT OF TRANSPORTATION

National Highway Traffic Safety Administration

49 CFR Parts 565, 566, 567, and 586

[Docket No. NHTSA-2019-0121]

RIN 2127-AL77

Replica Motor Vehicles; Vehicle Identification Number (VIN) Requirements; Manufacturer Identification; Certification

AGENCY: National Highway Traffic Safety Administration (NHTSA); Department of Transportation (DOT).

ACTION: Notice of proposed rulemaking.

SUMMARY: Section 24405 of the Fixing America's Surface Transportation Act (FAST Act) amended the National Traffic and Motor Vehicle Safety Act (Safety Act) to direct the Secretary of Transportation (NHTSA by delegation) to exempt annually a limited number of replica motor vehicles manufactured or imported by low-volume manufacturers from Federal motor vehicle safety standards (FMVSS) that apply to motor vehicles, but not standards that apply to motor vehicle equipment. To implement the exemption program and the procedural mandates of the FAST Act, NHTSA is proposing, in a new Part 586, requirements for registering as a replica manufacturer, submitting annual reports, providing consumer disclosures, and labeling. NHTSA is proposing procedures to exempt replica vehicles produced by registrants from all the FMVSS that apply to new motor vehicles. This Notice of Proposed Rulemaking (NPRM) also proposes changes to Part 565, to require manufacturers to encode specific information into each replica vehicle's VIN, and to Parts 566 and 567 for manufacturer identification and vehicle certification, respectively.

DATES: You should submit your comments early enough to ensure that the docket receives them not later than February 6, 2020. In compliance with the Paperwork Reduction Act, NHTSA is also seeking comment on a new information collection and revisions to existing information collections. For additional information, see the Paperwork Reduction Act section under the Regulatory Notices and Analyses section below. All comments relating to the information collection requirements should be submitted to NHTSA and to the Office of Management and Budget (OMB) at the address listed in the ADDRESSES section on or before February 6, 2020.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: 202-493-2251.

Regardless of how you submit your comments, please be sure to mention the docket number of this document.

Comments on the proposed information collection requirements should be submitted to: Office of Management and Budget, Office of Information and Regulatory Affairs, Washington, DC 20503, Attn: Desk Officer for NHTSA. It is requested that comments sent to the OMB also be sent to the NHTSA rulemaking docket identified in the heading of this document.

Instructions: For detailed instructions on submitting comments and additional information on the rulemaking process, see the Public Participation section of this document. Note that all comments received will be posted without change to http://www.regulations.gov, including any personal information provided. Please see the Privacy Act heading under Rulemaking Notices and Analyses regarding documents submitted to the agency's dockets.

Docket: For access to the docket to read background documents or comments received, go to http://www.regulations.gov or the street address listed above. Follow the online instructions for accessing the dockets.

FOR FURTHER INFORMATION CONTACT: For technical issues and information concerning the information collections, you may contact Ms. Mary Versailles, Office of Rulemaking, by telephone at 202-366-2057. For legal issues, you may contact Ms. Callie Roach, Office of the Chief Counsel, by telephone at 202-366-2992. The mailing address of both officials is: National Highway Traffic Safety Administration, 1200 New Jersey Avenue SE, West Building, Washington, DC 20590.

SUPPLEMENTARY INFORMATION:

Table of Contents

I. Executive Summary

II. Background—Summary of Significant FAST Act Provisions

III. NHTSA's Proposed Replica Vehicle Program—Basics

a. Overview

b. Number of Exempted Vehicles Permitted

c. Low-Volume Manufacturer Requirement

d. Vehicles Built in Two or More Stages

IV. Relevant Definitions

a. Low-Volume Manufacturer

b. Replica Motor Vehicle

1. Requirement To Resemble the Replicated Vehicle

2. Requirement To Manufacture Under License Agreement for Intellectual Property Rights

V. Safety Requirements

a. Equipment FMVSS

b. Considered Requirements

c. Safety-Related Defects

VI. Registration Requirements

VII. Other Administrative Requirements

a. Manufacturer Identification Requirements (49 CFR Part 566)

b. Manufacturer Identifier

c. Vehicle Identification Number (VIN)

d. Certification

e. Importation

VIII. Labels and Other Consumer Disclosures

a. Permanent Label

b. Written Notice to Dealers and First Purchasers

c. Temporary Label

IX. Reporting

X. Revocation of Registrations

XI. Overview of Benefits and Costs

XII. Effective Date

XIII. Regulatory Notices and Analyses

XIV. Public Participation

I. Executive Summary

The National Traffic and Motor Vehicle Safety Act (“Safety Act”) (49 U.S.C. Chapter 301, Motor Vehicle Safety (49 U.S.C. 30101 et seq.)) authorizes and directs the Secretary of Transportation (NHTSA by delegation) to prescribe Federal motor vehicle safety standards (FMVSS) to reduce traffic accidents and deaths and injuries resulting therefrom.¹ Under section 30112(a) of the Safety Act, a person may not manufacture for sale, sell, offer for sale, introduce or deliver for introduction into interstate commerce, or import into the United States, any new motor vehicle or motor vehicle equipment unless the vehicle or equipment complies with all applicable FMVSS in effect on the date of manufacture.

¹ The Secretary of Transportation has delegated the responsibility to promulgate regulations under 49 U.S.C. Chapter 301, Motor Vehicle Safety (49 U.S.C. 30101 et seq.) to NHTSA. See, 49 CFR 1.95.

Pursuant to the Safety Act, NHTSA has issued FMVSS to protect the public against unreasonable risk of crashes occurring because of the design, construction, or performance of a vehicle and against unreasonable risk of death or injury in a crash. Some of the FMVSS are “vehicle” standards that apply only to new completed vehicles as a unit and not to aftermarket components, some are “equipment” standards that apply to original and aftermarket items of equipment, and a few are both vehicle and equipment standards. Section 30115 of the Safety Act requires that the manufacturer or distributor of a motor vehicle or motor vehicle equipment subject to the FMVSS certify at delivery that the vehicle or equipment complies with all applicable FMVSS.

The Safety Act provides limited authority to NHTSA to exempt motor vehicles from section 30112(a). Section 30113 authorizes NHTSA to exempt motor vehicles from a motor vehicle safety standard on a temporary basis and under tightly defined circumstances. Section 30114 sets forth “special exemptions” for motor vehicles and motor vehicle equipment from section 30112(a). Until the Fixing America's Surface Transportation Act (FAST Act), exemptions under section 30114 were limited to those necessary for research, investigations, demonstrations, training, competitive racing events, show, or display.

On December 4, 2015, Congress enacted the FAST Act (Pub. L. 114-94). Section 24405 of the FAST Act amended section 30114 of the Safety Act by, among other things, adding a subsection (b)(1)(A) that directs NHTSA by delegation to “exempt from section 30112(a) of this title not more than 325 replica motor vehicles per year that are manufactured or imported by a low-volume manufacturer.” Section 30114(b)(1)(B) states that exemptions are available from FMVSS for motor vehicles (i.e., vehicle standards), but not from FMVSS for motor vehicle equipment (i.e., equipment standards).²

² Using the above example, the FAST Act exempts the vehicle from meeting the FMVSS in effect on January 1, 2018 applying to passenger cars that are “vehicle” standards, such as the standards for braking systems, advanced frontal air bags, side impact head protection, ejection mitigation, roof crush resistance, fuel system crash integrity, and electronic stability control. The equipment used in the manufacture of a replica vehicle would still need to meet any applicable “equipment” standards in effect when the equipment was manufactured, such as those for lamps, glazing materials, and tires.

Under the delegation in 49 CFR 1.95 and pursuant to section 24405 of the FAST Act, NHTSA is proposing to adopt a regulation, 49 CFR part 586, and amend others to implement the low-volume manufacturer replica vehicle program. The FAST Act contains specific procedural requirements for the registration of low-volume manufacturers, labeling of replica vehicles, reporting, and other matters related to the exemption program. To implement the program and the procedural mandates of the FAST Act, NHTSA is proposing a new Part 586 to set forth requirements for registration, labeling, providing consumer disclosures, submitting annual reports, and other requirements needed for the administration of the program. This NPRM also proposes changes to Part 565 to require manufacturers to encode specific information into each replica vehicle's VIN, and to Parts 566 and 567 for manufacturer identification and vehicle certification, respectively.

NHTSA highlights the following aspects of the replica vehicle exemption program.

1. Low-volume manufacturers registering for this program would be conditionally exempt from section 30112(a)'s prohibitions on manufacturing, selling, and importing noncomplying motor vehicles for 325 replica motor vehicles per year (“covered replica vehicles”) per manufacturer. The exemption for replica vehicles would be conditioned on the manufacturer complying with all requirements of the program.³ The covered replica vehicles would be exempt from complying with the “vehicle” standards in effect on the date of manufacture of the replica that apply to new vehicles of the replica's type (e.g., passenger car, multipurpose passenger vehicle) and configuration, but would not be exempt from the “equipment” standards. That is, any equipment to which equipment standards apply that is installed on the covered replica vehicles would need to meet all applicable equipment standards in effect on the equipment's date of manufacture.

³ If a manufacturer produces vehicles that do not qualify as replica vehicles, the vehicles would be non-exempt vehicles and would be required to comply with all applicable FMVSS. For example, NHTSA is proposing requirements to ensure that replica vehicles resemble the original vehicle. If a manufacturer submits design plans and NHTSA approves the registration, a deviation from those plans that results in vehicles that do not resemble the original would render those vehicles non-exempt.

2. NHTSA emphasizes that a replica vehicle manufacturer's obtaining of an exemption from the FMVSS applicable to vehicles would have no effect on the manufacturer's obligation under the Safety Act to recall and remedy its vehicles if they are found by the manufacturer or NHTSA to contain a defect that creates an unreasonable risk to safety. Further, in such instance, manufacturers of covered replica vehicles must comply with the requirements of 49 U.S.C. 30116 through 30120A relating to defect reporting and notification.⁴ In addition, the FAST Act specifies that a low-volume manufacturer's registration in the program may be revoked if the manufacturer fails to comply with requirements or if its vehicles are found to contain a safety-related defect or if the manufacturer engages in unlawful conduct that poses a significant safety risk.⁵

⁴ 49 U.S.C. 30114(b)(8).

⁵ 49 U.S.C. 30114(b)(5).

II. Background—Summary of Significant FAST Act Provisions

On December 4, 2015, Congress enacted the FAST Act. Section 24405, “Treatment of Low-Volume Manufacturers,” provides a framework to exempt replica vehicles manufactured by low-volume manufacturers from certain vehicle safety standards. Section 24405 amends 49 U.S.C. 30114 by adding a new subsection.⁶

⁶ The FAST Act replica motor vehicle provision is not self-executing, i.e., the Secretary must take steps to implement it. The provision states that the Secretary (NHTSA by delegation) “shall exempt” the vehicles. Further, the provision requires low-volume manufacturers to “register with the Secretary at such time, in such manner, and under such terms that the Secretary determines appropriate” in order “[t]o qualify for an exemption.” NHTSA is proposing to establish 49 CFR part 586 to set forth those determinations in order to implement the program.

Section 30114(b)(1)(A) directs NHTSA to exempt “325 replica motor vehicles per year that are manufactured or imported by a low-volume manufacturer” from 49 U.S.C. 30112(a). Under 49 U.S.C. 30112(a), a person may not manufacture for sale, sell, offer for sale, introduce or deliver for introduction in interstate commerce, or import into the United States, any motor vehicle or motor vehicle equipment manufactured on or after the date an applicable motor vehicle safety standard prescribed under this chapter takes effect unless the vehicle or equipment complies with the standard and is covered by a certification issued under section 30115 of this title. The exemption, as provided in section 30114(b)(1)(B), is limited to the “Federal Motor Vehicle Safety Standards applicable to motor vehicles and not motor vehicle equipment.”

The FAST Act defines “low-volume manufacturer” at 49 U.S.C. 30114(b)(7)(A) as a manufacturer “whose annual worldwide production, including by a parent or subsidiary of the manufacturer, if applicable, is not more than 5,000 motor vehicles.” The definition also specifically excludes persons who are registered as importers under 49 U.S.C. 30141.

The Act defines “replica motor vehicle” at section 30114(b)(7)(B) as a motor vehicle produced by a low-volume manufacturer that “is intended to resemble the body of another motor vehicle that was manufactured not less than 25 years before the manufacture of the replica motor vehicle” and further specifies that the replica motor vehicle must be “manufactured under a license for the product configuration, trade dress, trademark, or patent, for the motor vehicle that is intended to be replicated from the original manufacturer, its successors or assignees, or current owner of such product configuration, trade dress, trademark, or patent rights.”

To obtain an exemption, the FAST Act requires that a low-volume manufacturer, pursuant to section 30114(b)(2), “register with [NHTSA] at such time, in such manner, and under such terms that [NHTSA] determines appropriate” and requires that NHTSA establish terms to “ensure that no person may register as a low-volume manufacturer if the person is registered as an importer under 49 U.S.C. 30141.”

Under section 30114(b)(5), NHTSA has 90 days to review and approve or deny a low-volume manufacturer's registration. If the agency determines that any such registration is incomplete, the agency has an additional 30 days for review. Any registration not approved or denied within 90 days after initial submission, or 120 days if the registration submission is incomplete, is deemed approved. Under section 30114(b)(5), NHTSA is authorized to revoke an existing registration based on a failure to comply with the requirements or a finding by the agency of a safety-related defect or unlawful conduct under this chapter that poses a significant safety risk. NHTSA must provide the registrant a reasonable opportunity to correct all deficiencies, if deemed correctable, at the sole discretion of NHTSA. An exemption granted by NHTSA may not be transferred to any other person, and expires at the end of the calendar year in which it was granted with respect to any volume authorized by the exemption that was not produced by the low-volume manufacturer. The Act directs NHTSA to maintain an up-to-date list of registrants and a list of the make and model of motor vehicles exempted on at least an annual basis and publish such list in the Federal Register or on a website operated by NHTSA.

The FAST Act requires, at section 30114(b)(3), that NHTSA require low-volume manufacturers to affix permanent labels to the exempted motor vehicles that identify the specified standards and regulations for which such vehicle is exempt from section 30112(a), state that the vehicle is a replica, and designate the model year such vehicle replicates. The provision also provides an option, under section 30114(b)(3)(B), for the agency to require low-volume manufacturers to deliver written notice of the exemption to the dealer and the first purchaser of the motor vehicle if the first purchaser is not an individual that purchases the motor vehicle for resale.

Further, under section 30114(b)(3)(C), low-volume manufacturers “shall annually submit a report to [NHTSA] including the number and description of the motor vehicles exempted” under the exemption for replica vehicles and the list of exemptions described on the required label.

Section 24405 of the FAST Act also exempts replica motor vehicles from 49 U.S.C. 32304, 32502, and 32902 and from section 3 of the Automobile Information Disclosure Act (15 U.S.C. 1232). That is, replica motor vehicles will be exempt from passenger motor vehicle country of origin labeling requirements, bumper standards, average fuel economy standards, and vehicle labeling and safety rating disclosure requirements.

Section 30114(b)(8) provides that aside from the express exemptions provided, manufacturers of replica motor vehicles “shall be considered a motor vehicle manufacturer for purposes of parts A and C of subtitle VI” of title 49. The FAST Act also expressly states that “[n]othing shall be construed to exempt a registrant from complying with the requirements under sections 30116 through 30120A.” Sections 30116 through 30120A provide the requirements for defects and noncompliance reporting, notification and remedies.

Section 30114(b)(9) states that nothing in section 30114(b) “shall be construed to preempt, affect, or supersede any State titling or registration law or regulation for a replica motor vehicle, or exempt a person from complying with such law or regulation.”

Further, section 24405(b) of the FAST Act amends the Clean Air Act to provide a framework for replica motor vehicles (referred to as exempted specially produced motor vehicles) to be exempt from vehicle certification testing and vehicle emission control inspection and maintenance requirement.⁷ Among other requirements, the FAST Act directs manufacturers of replica motor vehicles to register with the Administrator of the Environmental Protection Agency and provides requirements for installing engines in exempted replica vehicles.

⁷ The exemption program is limited to light-duty vehicles and light-duty trucks. 42 U.S.C. 7525(a)(5)(H)(i).

III. NHTSA's Proposed Replica Vehicle Program—Basics

a. Overview

NHTSA proposes the following provisions to implement the low-volume manufacturer replica vehicle program. Comments are requested on all aspects of the proposal.

The FAST Act contains specific definitions pertinent to the program and has numerous substantive and procedural requirements related to the exemption program. To implement the program and the procedural mandates of the FAST Act, we propose to establish Part 586 to specify definitions, procedural requirements for registration, labeling, consumer disclosures, submitting annual reports, and other matters needed for the administration of the program. This NPRM also proposes changes to Part 565 to require manufacturers to encode specific information into each replica vehicle's VIN, and to Parts 566 and 567 for manufacturer identification and vehicle certification, respectively.

b. Number of Exempted Vehicles Permitted

Under the FAST Act, the exemption program is limited to “not more than 325 replica motor vehicles per year that are manufactured or imported by a low-volume manufacturer” that registers with NHTSA.⁸

⁸ See section 30114(b)(1) and (2).

NHTSA has interpreted the FAST Act to allow NHTSA to grant each registered low-volume manufacturer exemptions to produce up to 325 replica vehicles per calendar year.

c. Low-Volume Manufacturer Requirement

Congress specified that replica vehicles must be “manufactured or imported by a low-volume manufacturer.” NHTSA interprets this to mean that the vehicles must be produced by a “low-volume manufacturer,” and that replica vehicles may only be imported by their fabricating low-volume manufacturer.⁹ This means that replica vehicles fabricated by a foreign low-volume manufacturer may only be imported by that specific registered low-volume manufacturer (and each low-volume manufacturer would be limited to importing 325 replica vehicles per year, regardless of the calendar year of manufacture).¹⁰

⁹ Interpreting the statute to allow replicas to be produced by foreign manufacturers that do not qualify as low-volume manufacturers and then imported by low-volume manufacturers is contrary to Congress's intent to create an exemption program designed to address the unique financial challenges small manufacturers face.

¹⁰ A low-volume manufacturer would not be permitted to import 326 replica vehicles into the U.S. in a single calendar year, regardless of whether those vehicles were fabricated over the course of two calendar years.

NHTSA interprets the FAST Act provision in the same way NHTSA has interpreted the hardship exemption provision in 49 U.S.C. 30113, i.e., as not authorizing the agency to grant hardship exemptions to entities that seek to import vehicles they did not produce.¹¹ NHTSA believes interpreting section 24405 of the FAST Act in the same manner is appropriate because both provisions recognize that small manufacturers are faced with unique financial challenges in meeting the FMVSS and provide exemptions to alleviate this burden.

¹¹ See letter to Mr. Bill Cox (March 24, 1997) available at https://isearch.nhtsa.gov/files/kill.ztv.html.

Although the Safety Act includes importers in the definition of manufacturer,¹² importers are not always treated the same as fabricating manufacturers. For example, fabricating manufacturers bear the primary responsibility for meeting the FMVSS and certifying to those standards. For this reason, NHTSA does not believe limiting the exemption to fabricating manufacturers is contrary to the statute.

¹² 49 U.S.C. 30102.

This proposed requirement would mean that an entity seeking to import replica motor vehicles could not register as a low-volume manufacturer of replica vehicles unless it is also the entity fabricating the replica vehicles. NHTSA's interpretation ensures that small importers are not permitted to import replica vehicles that are manufactured by large foreign manufacturers.

NHTSA requests comment on NHTSA's interpretation.

d. Vehicles Built in Two or More Stages

NHTSA requests comment on whether the replica vehicle program should exclude vehicles manufactured in two or more stages. As discussed below, some of the requirements that NHTSA is proposing may be impossible to meet unless the replica vehicle is manufactured in a single stage. This exclusion would provide clarity to manufacturers and ensure that incomplete, intermediate, and final-stage manufacturers do not attempt to become low-volume manufacturers of replica vehicles and later, after expending resources, realize they cannot comply with all the procedural requirements.

NHTSA seeks comment on excluding vehicles manufactured in two or more stages from the exemption program for the following reasons.

First, NHTSA wishes to ensure replica vehicles are properly identified as replicas in their VINs, which could be a problem with replica vehicles manufactured in two or more stages. NHTSA's proposed VIN requirements would stipulate that each replica vehicle must have the identification of its low-volume manufacturer and a designation that the vehicle is a replica encoded in its VIN. The VIN would also be required to indicate the make, model, and model year of the replicated vehicle. Those requirements could not be met by vehicles produced in two or more stages because under NHTSA's VIN regulation, each vehicle manufactured in two or more stages has a VIN assigned by the incomplete vehicle manufacturer.¹³ The VIN of an incomplete vehicle may not be able to meet the proposed VIN requirements because the incomplete manufacturer may not know the make, model, and model year of the vehicle being replicated.

¹³ 49 CFR 565.13(a). See also 49 CFR 567.3 for definitions of “incomplete vehicle,” “incomplete vehicle manufacturer,” “final-stage manufacturer,” and other terms relevant to this discussion.

NHTSA is proposing a requirement that replica vehicle VINs designate the vehicle as a replica, what year it was manufactured, what vehicle it intends to replicate, the year of the original vehicle, and the identification of the manufacturer responsible for certifying the vehicle's compliance. Although that information may be provided on the certification label, including the information within the VIN provides an easier and more reliable way of verifying the characteristics of the vehicle. Including this information in the VIN and would also allow NHTSA to search its databases for crashes involving replica vehicles and better evaluate the safety of replica vehicles.

Second, NHTSA does not believe that the replica program is conducive to the multi-stage manufacture of replica vehicles as a practical matter. The FAST Act emphasizes that the replica vehicle exemption program is designed for “low-volume manufacturers.” The program is set forth in section 24405 of the FAST Act, which is entitled, “Treatment of Low-Volume Manufacturers.” The statute repeatedly describes the “exemption” as one for “low-volume manufacturers” and specifically exempts replica motor vehicles “that are manufactured or imported by a low-volume manufacturer.” NHTSA interprets this language to mean that if we were to permit the manufacture of replica vehicles produced in two or stages, each of the manufacturers, at all stages, would need to be a low-volume manufacturer. To our knowledge, incomplete vehicle manufacturers are typically not low-volume manufacturers. As a practical matter, therefore, it is likely that vehicles made in two or more stages would not qualify for the program because of the size of their manufacturer(s).¹⁴

¹⁴ NHTSA believes problems with program administration could also result if incomplete vehicle manufacturers do not need to be low-volume manufacturers. NHTSA's VIN regulation requires vehicles manufactured in one stage to have the type of vehicle and bus body information encoded into the VIN. For vehicles manufactured in two or more stages, the VIN only identifies the incomplete vehicle manufacturer. If the incomplete vehicle manufacturer were not a low-volume manufacturer and the vehicle was completed as a replica motor vehicle by a final-stage manufacturer which was registered as a low-volume manufacturer of replica vehicles, the replica vehicle's VIN would not be encoded to identify the vehicle as a replica vehicle. This would be a problem because, as noted above, the replica vehicle information included in the VIN identifies what standards are applicable to the vehicle.

As an alternative to excluding multi-stage manufacturing from the exemption program, NHTSA is considering allowing joint registration submissions from two or more manufacturers wishing to manufacture replica vehicles. This would allow an incomplete vehicle manufacturer, a final-stage manufacturer, and any intermediate-stage manufacturers to jointly manufacture up to 325 replica vehicles annually. As a condition, however, any manufacturer with a joint registration would not be permitted to participate in the manufacture of any replica vehicles not covered by that registration. Under a joint registration program, the incomplete vehicle manufacturers would be required to code the information about the finished replica vehicle into its VIN. At the onset of manufacturing, the incomplete vehicle would know, as specified in the registration submission, the make, model, and model year of the vehicle the replica resembles.

NHTSA requests comment on whether the replica vehicle exemption program should exclude vehicles made in two or more stages or allow those vehicles to be manufactured under joint registrations from the incomplete vehicle manufacturer, final-stage manufacturer and any intermediate manufacturers. Although NHTSA has concerns about administering the program to allow multi-stage manufacturing, NHTSA believes either proposals will ensure that Congress's goal of limiting the exemption to 325 vehicles per manufacturer per year is not circumvented.

IV. Relevant Definitions

a. Low-Volume Manufacturer

Section 30114(b)(7)(A) defines “low-volume manufacturer” as: “a motor vehicle manufacturer, other than a person who is registered as an importer under section 30141 of this title, whose annual worldwide production, including by a parent or subsidiary of the manufacturer, if applicable, is not more than 5,000 motor vehicles.” NHTSA is proposing to use the term “replica motor vehicle manufacturer” in the proposed Part 586 rather than “low-volume manufacturer” to identify the manufacturers exempted by Part 586 because the latter term is used and defined differently in several other NHTSA regulations. For example, “low-volume manufacturer” is defined in the VIN regulation (Part 565) as a manufacturer of fewer than 1,000 vehicles of a given type.

For proposed Part 586, the term “replica motor vehicle manufacturer” would be defined as a low-volume manufacturer that is registered as a replica motor vehicle manufacturer pursuant to the requirements in Part 586. The regulation would specify that “low-volume manufacturer” is defined in 49 U.S.C. 30114(b)(7). (Hereinafter in this NPRM, NHTSA will use the terms “replica motor vehicle manufacturer,” “replica manufacturer,” and “registrant” to mean a low-volume manufacturer that is registered under Part 586.)

b. Replica Motor Vehicle

Section 30114(b)(7)(B) defines “replica motor vehicle” as follows: A motor vehicle produced by a low-volume manufacturer that (i) is intended to resemble the body of another motor vehicle that was manufactured not less than 25 years before the manufacture of the replica motor vehicle; and (ii) is manufactured under a license for the product configuration, trade dress, trademark, or patent, for the motor vehicle that is intended to be replicated from the original manufacturer, its successors or assignees, or current owner of such product configuration, trade dress, trademark, or patent rights.

NHTSA is proposing requirements that would provide clarifications to the definition. First, “replica motor vehicle” would be defined, in part, as a motor vehicle that is produced by a manufacturer meeting the definition of replica motor vehicle manufacturer under Part 586 that has not yet manufactured 325 replica motor vehicles in that calendar year. This emphasizes the limit of 325 vehicles. Second, we propose requirements that will ensure that a replica vehicle meets the requirement that it be intended to resemble the original vehicle. Third, we address the provision about the manufacture of the vehicle pursuant to certain agreements for the intellectual property rights associated with the original vehicle that is being replicated. The second and third aspects are discussed below.

1. Requirement To Resemble the Replicated Vehicle

The FAST Act states that a replica vehicle is a vehicle that is “intended to resemble the body” of another motor vehicle that was manufactured at least 25 years before the replica. NHTSA is proposing requirements that replica manufacturers demonstrate objective manifestations of intent.

To balance objectivity, feasibility, and enforceability, NHTSA is proposing a requirement that manufacturers submit documentation to support the assertion that the replica vehicle is intended to resemble the original. The documentation must demonstrate that the replica vehicle has the same length, width, and height as the original and must include images of the original vehicle and design plans for the replica vehicle.

One way to ensure that a vehicle is intended to resemble another vehicle would be to require the measurements and shape of the replica motor vehicle body to be identical to those of the replicated vehicle. NHTSA has tentatively decided not to propose requiring replica vehicles to have the exact same specifications as the original vehicles. All of the specifications for the original may not be available and some adjustments may be necessary (e.g., to accommodate modern safety features). That being said, our research shows that information regarding the dimensions of popular car models is available. Therefore, NHTSA believes that requiring the replica vehicles to have the same height, width, and length of original would be a reasonable and objective requirement that would help ensure that replica vehicles are intended to resemble the replicated vehicle.

In addition to the dimension and shape requirement, NHTSA is proposing a requirement that each replica vehicle have the same outward appearance or exterior as the original vehicle. This would mean that each replica must have the same body styling, shape, and exterior features as the original. Compliance with this requirement would be determined based primarily on the location, size, and shape of exterior features and the overall shape of the body of the vehicle.

We interpret the Act's reference to “body” to mean any part of the vehicle that is not part of the chassis or frame. Therefore, NHTSA interprets “body” to include, but not be limited to: The exterior sheet metal and trim, the passenger compartment, trunk, bumpers, fenders, grill, hood, interior trim, lights and glazing. In making this interpretation, NHTSA looked at, among other things, its concept of “body type” as defined at 49 CFR 565.12. “Body type” is defined as the general configuration or shape of a vehicle distinguished by such characteristics as the number of doors or windows, cargo-carrying features and the roofline (e.g., sedan fastback, hatchback). This definition helped NHTSA identify vehicle features and components that are part of the vehicle body. Because the definition includes reference to the shape of the vehicle as well as both exterior and interior features, NHTSA interprets the concept of “body” to include both exterior and interior characteristics. Although a replica vehicle must be the same body type as the original vehicle, merely replicating the number of doors and windows, cargo-carrying features, and the roofline is not sufficient.

In each manufacturer's annual report, the manufacturer would submit: Images of the original vehicle, images of the replica produced, and full and complete descriptive information, views, and arguments sufficient to establish that the replica motor vehicles, as manufactured, resemble the body of the original vehicle.

Deviations in the appearance of the exterior would be considered carefully. While reasonable allowances would be made to accommodate safety equipment, NHTSA would consider any unjustified exterior changes (e.g., not for safety) as potential indications that the vehicle is not a replica. If a replica manufacturer wants to make deviations to the exterior of the vehicle to accommodate safety features, it would be required to highlight those deviations for NHTSA's consideration.

To be clear, the statute provides for the creation of an exemption program designed to allow old models to be replicated in a less costly way for low-volume manufacturers. It does not allow manufacturers to experiment with new motor vehicle designs or produce vehicles that do not resemble vehicles made not less than 25 years before the replica motor vehicle's manufacture.

As the statutory definition refers specifically to the “body” of the original vehicle, we propose that the interior of the replica vehicle does not need to “resemble” that of the original vehicle. NHTSA believes this approach would allow low-volume manufacturers to update the interiors to provide modern amenities and safety improvements.

NHTSA does not interpret the resemblance or licensing provisions in the FAST Act as requiring replica vehicle manufacturers to obtain rights to put all logos and emblems that were on the original vehicle on the replica vehicle. Although separate from body styling, the logos and emblems are part of the distinctive external appearance of a vehicle. Whether vehicle logos and emblems are required to appear as part of the requirements to produce a vehicle that resembles an original vehicle is a separate concern from whether replica manufacturers are required to obtain licenses from rights holders to use the logos and emblems. NHTSA addresses intellectual property rights requirements in the next section. In this section, NHTSA requests comment on whether replica production under these requirements should mandate the use of the actual logos, emblems and vehicle model names that appear originally or if something less or different in this area should apply. To be clear, NHTSA is not proposing to require the use of vehicle logos and emblems as a requirement of resemblance under the statute at this time.

NHTSA considered a provision requiring replica vehicles to resemble the body of the original vehicle not only cosmetically, but also with respect to the vehicle's conformance with the “vehicle” FMVSS that applied to the original vehicle. This provision would require at a minimum, the replica vehicle's body to include the safety features incorporated in the original vehicle to meet the vehicle FMVSS. The section titled “Considered Requirements” below discusses this further and the reasons NHTSA decided not to take this approach.

Because we interpret “body” not to include chassis or frame components, the replica would not need to have the same engine, transmission or drive axles, or drive train as the original vehicle. For example, a replica vehicle could be a battery electric vehicle, while the original vehicle was powered by an internal combustion engine.

Further, we propose that the replica vehicle must resemble the body of another motor vehicle that was manufactured “for consumer sale” not less than 25 years before the manufacture of the replica motor vehicle. The provision “for consumer sale” is intended to make clear that the proposed replica vehicle exemption program does not apply to prototype or concept vehicles that were never sold to consumers. NHTSA intends to prevent the replication of prototypes because the vehicles were never intended for sale to the public. Further, a prototype would not be eligible for replication under this provision because the Safety Act defines motor vehicle as a vehicle driven or drawn by mechanical power and manufactured primarily for use on public streets, roads, and highways, but does not include a vehicle operated only on a rail line.¹⁵ A prototype not intended for sale to the public does not meet the definition of a vehicle manufactured for use on public streets, roads, and highways. Therefore, as the FAST Act provision requires that the replica vehicle resemble another motor vehicle, a vehicle replicating a prototype would not qualify for the exemption provided by section 30114(b).

¹⁵ 49 U.S.C. 30102(a)(7).

NHTSA requests comment on the requirement for replica vehicles to have the same dimensions and outward appearance as the original vehicle and whether the logos and emblems from the original vehicle should be reproduced on each replica vehicle. We also seek comment on the requirement that manufacturers submit images of the both the original vehicle and design plans or images of a representative replica vehicle in the registration submission and requirement to submit images of the replica vehicle(s) in the annual report.

2. Requirement To Manufacture Under License Agreement for Intellectual Property Rights

The FAST Act states that a replica motor vehicle “is manufactured under a license for the product configuration, trade dress, trademark, or patent, for the motor vehicle that is intended to be replicated from the original manufacturer, its successors or assignees, or current owner of such product configuration, trade dress, trademark, or patent rights.” NHTSA views this provision as requiring replica vehicles manufactured under this program to be licensed products. This means that the manufacturer must obtain all legal rights necessary to produce the replica vehicle from the original manufacturer, its successes or assignees, or current owner of such intellectual property rights. As is clear from the comprehensive listing of the type of rights that might apply in such an effort, while creating an exemption for replica manufacturers, Congress also sought to protect the rights of the original manufacturers and their successors.

NHTSA is defining legal rights to be primarily based on the external appearance of the vehicle. Under the statute, replica manufacturers are defined as producing vehicles that are intended to resemble the body of another motor vehicle. NHTSA is not applying the definition to require that manufacturers also obtain rights associated with vehicle mechanics, electronic components or other interior aspects of a vehicle, unless implicated by the reproduction or otherwise necessary to ensure that the outward facing appearance of the replica vehicle resembles the original vehicle. While it is clear that such rights might exist, in our view, it is not necessary in most situations to obtain those rights for the purpose of producing a replica. However, we accept that some types of replica production may require intellectual property rights to components or other parts that are separate from the outward facing appearance of a vehicle.

In this document, NHTSA is not identifying any specific intellectual property rights that must be obtained by a replica manufacturer. However, as noted above, the FAST Act includes a definition of replica vehicle that identifies specifically “product configuration, trade dress, trademark, or patent” as intellectual property rights that might be licensed from a current rights holder prior to production. Based on this, replica manufacturers should consider what intellectual property rights are needed for production and obtain such rights prior to seeking registration with NHTSA.

For example, the FAST Act expressly includes trademarks as part of the rights that a manufacturer would obtain from an original manufacturer to produce a replica. Trademarks may cover vehicle make and model names or logos. Since NHTSA is requiring that replica manufacturers identify the original vehicle(s) it intends to replicate by make and model name and certify that the replica is intended to resemble and replicate the original, the manufacturer should consider whether it is necessary to obtain these rights. Certifying that a vehicle is intended to resemble another vehicle could implicate intellectual property rights for trademarked, or otherwise protected, make or model names. However, NHTSA is not proposing any specific requirement at this time that replica manufactures affirmatively obtain these rights in connection with the manufacture of replica vehicles. NHTSA seeks comment on whether the replica vehicle manufacturer must obtain a license to use the original vehicle's make and model names and reserves the right to add a requirement based on the nature of the comments received.

NHTSA's role is to ensure that the manufacturers who register under this program meet the statutory requirements set forth in the FAST Act. Although NHTSA will review registration applications, NHTSA will not determine what intellectual property is required to produce a replica vehicle. Manufacturers remain responsible for performing the due diligence necessary to determine what rights are needed, and to obtain relevant rights. In areas of dispute, where the rights of a replica manufacturer are questioned, NHTSA plans to allow general legal procedures to take place without involvement.

That being said, NHTSA wants to ensure that manufacturers seeking registration under the statute have the legal basis to produce the replica vehicle. In order to protect rights holders and to mitigate the chance that lawsuits will emerge from this process, NHTSA is proposing that, when submitting its registration, manufacturers must provide a binding certification that attests that they can legally produce each replica vehicle model they propose to make. This requirement means that manufacturers must certify that they have determined the legal rights required and that they have obtained all licenses or permissions necessary to produce the replica vehicle. Applications that contain a missing or incomplete certification would be disapproved.

In addition to the required certification, the manufacturer also must provide supporting documentation that sets forth a description of the types of intellectual property that are necessary to produce the replica vehicle, addressing the status of each of those rights. If the manufacturer has a license for particular rights, it should provide documentation to that effect. If intellectual property rights for the original vehicle are no longer protected, the manufacturer should include a statement briefly stating the basis for concluding that no license is required. As an example,¹⁶ a manufacturer seeking to replicate a Shelby Cobra must be able to state that it has the legal right to produce its distinctive body styling or explain why the body styling is no longer protected and provide support for this position. The information submitted also must address the fact that “Shelby” and “Cobra” are both trademarked and that permission may be required from both Carroll Shelby International and Ford Motor Company to manufacture the replica vehicle. As shown in the example above, the intellectual property of one vehicle may be owned by multiple individuals or entities. In those situations, licenses would need to be obtained from each one.

¹⁶ Please note that this example is provided for illustrative purposes only. The types of intellectual property rights discussed for the Shelby Cobra are not meant to be authoritative or exhaustive. It is merely provided as an example of some of the types of intellectual property rights a prospective replica manufacturer should look to when obtaining licenses to manufacture a replica.

NHTSA is also proposing clarifying an aspect of the requirement that replica motor vehicles be manufactured under licensing agreements for the intellectual property rights of the original vehicles. The statute is ambiguous concerning the treatment of current owners of intellectual property rights that wish to manufacture replica vehicles. That is, the statute could arguably be read to require license agreements even when the current owner of the intellectual property also intends to manufacture the replica vehicles. NHTSA believes this creates an unnecessary step for current rights holders and does not meet Congress' intent with these requirements. Accordingly, NHTSA interprets the licensing requirement to apply only when a manufacturer intending to produce replica vehicles does not own the intellectual property rights to the original vehicle (which is being replicated).

V. Safety Requirements

a. Equipment FMVSS

The FMVSS apply to motor vehicles and/or motor vehicle equipment that are manufactured on or after the effective date of the standard.¹⁷ The covered replica vehicles would be exempt from complying with the “vehicle” standards in effect on the date of manufacture of the replica that apply to new vehicles of the replica's type (e.g., passenger car, multipurpose passenger vehicle) and configuration. However, equipment on a replica vehicle would not be exempt from the “equipment” standards in effect on the equipment's date of manufacture that apply to equipment items on or in the vehicle. Equipment to which an FMVSS applies must meet the applicable standard in effect on the equipment's date of manufacture, regardless of whether it is installed on a conforming vehicle or a vehicle granted a replica vehicle exemption.

¹⁷ 49 CFR 571.7(a).

Whether an FMVSS is a “vehicle” standard or an “equipment” standard is determined by the “Application” section of the standard. If vehicle types are listed in the section, such as “passenger cars, multipurpose passenger vehicle, trucks, and buses,” ¹⁸ the standard is considered a “vehicle” standard. If equipment items are listed in the section, the standard is an “equipment” standard.¹⁹ A standard that lists both motor vehicles and equipment items in its applicability section is considered both a vehicle and an equipment standard.²⁰ Replica vehicles would be exempt from any standard or portion of a standard that applies only to vehicles.

¹⁸ See e.g., FMVSS No. 101, “Controls and displays,” S3, “Application.”

¹⁹ E.g., FMVSS No. 209, “Seat belt assemblies,” S2, “Application,” states: “This standard applies to seat belt assemblies for use in passenger cars, multipurpose passenger vehicles, trucks, and buses.”

²⁰ E.g., FMVSS No. 205, “Glazing materials,” S3, “Application,” states, in relevant part: “This standard applies to passenger cars, multipurpose passenger vehicles, trucks, buses, motorcycles, slide-in campers, pickup covers designed to carry persons while in motor and low speed vehicles, and to glazing materials for use in those vehicles.”

If an FMVSS that is both a vehicle and an equipment standard has requirements that apply to vehicles that are vehicle-specific, separate from requirements that apply to the equipment items, in NHTSA's view the replica motor vehicles are exempt from the vehicle-specific requirements but the requirements applying to the motor vehicle equipment would continue to apply. For example, for FMVSS No. 108, “Lamps, reflective devices, and associated equipment,” while the replica vehicle would not need to comply with vehicle-specific requirements specifying where lamps must be placed on the vehicle, the replica vehicle's lamps must meet the applicable portions of the standard that apply to lamps as equipment items on the date that the lamps were manufactured. Compliance with the vehicle portion of FMVSS No. 108 may be difficult or impossible when trying to produce a vehicle that resembles the appearance of an older vehicle, e.g., the number and/or location of headlamps and/or tail lamps on the replica might not meet the specifications of FMVSS No. 108.

Another notable standard that is both a vehicle and an equipment standard is FMVSS No. 208, “Occupant crash protection.” FMVSS No. 208 is mainly thought of as a vehicle standard requiring the installation of air bags and seat belts and specifying vehicle crash tests to evaluate the protective capabilities of those devices. However, section S9, “Pressure vessels and explosive devices,” applies to vessels designed to contain a pressurized fluid or gas, and to explosive devices, for use in covered motor vehicles as part of a system designed to provide protection to occupants in the event of a crash.²¹ If a replica motor vehicle has a pressure vessel or explosive device, it must meet the requirements of S9 of FMVSS No. 208.

²¹ 49 CFR 571.208, S9.

To assist the reader, the following is a list of current equipment FMVSS that would apply to motor vehicle equipment manufactured on today's date for installation in replica motor vehicles ²² if the program were in place today:

²² These are the FMVSS applying now to equipment only and to both vehicles and equipment. This list is provided here for illustration purposes only and not for purposes of establishing compliance. The list is also subject to change and/or correction. Manufacturers are responsible for ensuring the compliance of their vehicles and/or equipment with all applicable FMVSS and for keeping current with the FMVSS that apply to their vehicles and/or equipment.

FMVSS No. 106, Brake hoses;

FMVSS No. 108, Lamps, reflective devices, and associated equipment;

FMVSS No. 109, New pneumatic and certain specialty tires;

FMVSS No. 110, Tire selection and rims and motor home/recreation vehicle trailer load carrying capacity information for motor vehicles with a GVWR of 4,536 kilograms (10,000 pounds) or less;

FMVSS No. 116, Motor vehicle brake fluids;

FMVSS No. 117, Retreaded pneumatic tires;

FMVSS No. 119, New pneumatic tires for motor vehicles with a GVWR of more than 4,536 kilograms (10,000 pounds) and motorcycles;

FMVSS No. 120, Tire selection and rims and motor home/recreation vehicle trailer load carrying capacity information for motor vehicles with a GVWR of more than 4,536 kilograms (10,000 pounds);

FMVSS No. 125, Warning devices;

FMVSS No. 129, New non-pneumatic tires for passenger cars;

FMVSS No. 139, New pneumatic radial tires for light vehicles;

FMVSS No. 205, Glazing materials;

FMVSS No. 208, Occupant crash protection, for pressure vessels and explosive devices;

FMVSS No. 209, Seat belt assemblies;

FMVSS No. 213, Child restraint systems;

FMVSS No. 218, Motorcycle helmets;

FMVSS No. 223, Rear impact guards;

FMVSS No. 304, Compressed natural gas fuel container integrity; and

FMVSS No. 403 Platform lift systems for motor vehicles.

b. Considered Requirements

In drafting this proposed rulemaking, NHTSA considered adding requirements to ensure that replicas provide a minimum level of vehicle safety beyond the performance of discrete equipment items. At this time, NHTSA is not proposing any additional safety requirements, but comments are requested to inform future agency action.

One considered approach would require replica vehicles to resemble the body of the original vehicle not only cosmetically, but also with respect to the safety designs and components incorporated into the body of the original vehicle to meet the vehicle FMVSS applying to that original vehicle. Features that meet a more current version of a standard would also be permitted under this approach.²³

²³ Note that, as explained above, regarding equipment items for which an FMVSS applies, the replica vehicle would be required to have the equipment that met the equipment FMVSS when it was manufactured.

The language of the FAST Act directs NHTSA to exempt covered replica vehicles but to limit that exemption only to the current “vehicle” FMVSS that apply today to contemporary, newly completed vehicles. The Act defines “replica motor vehicle” in relevant part,²⁴ as “a motor vehicle produced by a low-volume manufacturer and that . . . is intended to resemble the body of another motor vehicle that was manufactured not less than 25 years before the manufacture of the replica motor vehicle.” The agency is considering whether replica vehicles should be required to resemble the body of the original vehicle not just superficially but also structurally with respect to designs that met the vehicle FMVSS applying to the original, but is not proposing to do so at this time.

²⁴ 49 U.S.C. 30114(b)(7)(B).

c. Safety-Related Defects

NHTSA emphasizes that a replica vehicle manufacturer's obtaining of an exemption from the FMVSS applicable to vehicles would have no effect on the manufacturer's obligation under the Safety Act to recall and remedy its vehicles if they are found by the manufacturer or NHTSA to contain a defect that creates an unreasonable risk to safety. Further, in such instance, manufacturers of covered replica vehicles must comply with the requirements of 49 U.S.C. 30116 through 30120A relating to defect reporting and notification. In addition, the FAST Act specifies that a low-volume manufacturer's registration in the program may be revoked if the manufacturer fails to comply with requirements or if its vehicles are found to contain a safety-related defect or if the manufacturer engages in unlawful conduct that poses a significant safety risk.

VI. Registration Requirements

This NPRM proposes requirements to implement the amendments made by section 24405 of the FAST Act to 49 U.S.C. 30114. Each manufacturer wishing to manufacture replica motor vehicles under this program must register, according the requirements in Part 586, as a replica motor vehicle manufacturer for the calendar year in which the replica motor vehicle is manufactured. Under 49 U.S.C. 30114(b)(2), low-volume manufacturers must be registered “[t]o qualify for an exemption.”

NHTSA would determine whether a manufacturer is eligible and permitted to manufacture replica motor vehicles based on the information the manufacturer provides in its registration documents. We propose that manufacturers would register using the NHTSA Product Information Catalog and Vehicle Listing (vPIC) platform (https://vpic.nhtsa.dot.gov/). We request comment on whether submissions should be allowed to be submitted by mail as well.

We propose that manufacturers must submit information sufficient to establish that their annual world-wide production, including by a parent or subsidiary of the manufacturer, if applicable, is not more than 5,000 motor vehicles, and a statement certifying to that effect, including the total number of motor vehicles produced by or on behalf of the registrant in the 12-month prior to filing the registration.

NHTSA proposes requiring that each manufacturer provide information, in its registration submission, about the replica vehicle it intends to manufacture, including a statement identifying the original vehicle(s) the manufacturer intends to replicate by make, model, and model year. The manufacturer must submit images of the front, rear, and side views of the original vehicle's exterior.

The manufacturer would also need to provide documents showing that it has obtained the intellectual property rights to produce the replica vehicle, documents to support that it has done so, and a statement certifying to that effect. Proof of such rights could be shown by furnishing a license for the product configuration, trade dress, trademark, or patent, for the motor vehicle that is intended to be replicated from the original manufacturer, its successors or assignees, or the current owner of such product configuration, trade dress, trademark, or patent. As discussed above this documentation could also include a statement as to why obtaining licenses for certain intellectual property is not required.

The manufacturer would also need to certify that it will not manufacture more than the number of replica motor vehicles covered by the requested exemption, a number not more than 325 replica motor vehicles in a calendar year. NHTSA interprets this limitation to mean that a manufacturer is limited to 325 replica vehicles, regardless of whether it is manufacturing replicas of different makes and models of vehicles. NHTSA also interprets this limitation to apply to manufacturers under common ownership. For example, if a parent company or individual owns two low-volume manufacturers, the 325-limit would apply to all manufacturers under common ownership. Each low-volume manufacturer would not be permitted to manufacture 325 replicas. Instead, the two manufacturers under common ownership would need to submit one registration submission and collectively cannot manufacture more than 325 replica vehicles in any given calendar year. NHTSA interprets the statute this way to ensure that the 325-replica limit set by Congress is not circumvented.

Further, the manufacturer would need to submit information required by other administrative regulations, including all information required by 49 CFR part 566 to identify itself to NHTSA as a replica motor vehicle manufacturer (see below for proposed amendments to Part 566), VIN-deciphering information required by 49 CFR part 565, and a designation of a permanent resident of the United States as its agent for service of process if the manufacturer is not located in the United States (49 CFR part 551, subpart D). (NHTSA does not believe that any changes to the regulation at 49 CFR part 551, subpart D for manufacturers of replica motor vehicles are needed.)

49 U.S.C. 30114(b)(5) specifies that NHTSA has 90 days to review and approve or deny a registration. This new subsection also provides an additional 30 days if the registration is determined to be incomplete. We anticipate setting up the program so that registration under Part 586 on the vPIC portal provides an acknowledgment of receipt of the registration to the manufacturer when the registration is submitted. As some of the information will be provided by the manufacturer in attachments, NHTSA will review the submission, including attachments, within 90 days of acknowledging receipt to ensure that the registration is complete. If the registration is incomplete, NHTSA will inform the manufacturer that the registration is incomplete via email. NHTSA is proposing to give manufacturer 60 days from the date of NHTSA's email to submit the necessary information to complete the registration. If the necessary information is not submitted within 60 days, the registration will be denied. NHTSA requests comment on whether this 60-day period to respond is appropriate. The manufacturer may resubmit the denied registration (presumably, the resubmitted registration will include the information NHTSA identified as missing from the prior application) but the 90-day clock will reset.²⁵

²⁵ Repetitious incomplete or inadequate registrations will be denied. For example, if a manufacturer submits the same, previously-denied registration in identical form a second time, NHTSA may deny it without going through the step of asking for more information.

A manufacturer may submit additional information to supplement its registration per NHTSA's notification of an incomplete registration (within 60 days of receipt of such notice), or may submit additional information on its own initiative. In these instances, NHTSA will have 30 additional days to review the amended registration. That is, these 30 days will be added to any remaining days from the initial 90-day review period. If the submission is still incomplete, NHTSA will deny the registration.

On receipt of a complete registration, NHTSA will review and approve or deny the registration. 49 U.S.C. 30114(b)(5) states that any registration not approved or denied within 90 days after initial submission, or 120 days if the registration submitted is incomplete, shall be deemed approved.

We propose that a low-volume manufacturer is not considered registered with NHTSA unless the manufacturer receives confirmation from NHTSA that its registration is approved. A manufacturer whose registration is not approved or denied within the allotted time, who believes its registration is thus deemed approved, must obtain confirmation of the approval from NHTSA. When NHTSA confirms the approval, NHTSA would add the manufacturer to the up-to-date list of registrants.

The reason for requiring that manufacturers obtain confirmation of approvals in the circumstances describe above is to better safeguard the integrity of the exemption program against confusion and fraud. This approach would avoid situations in which a manufacturer might assume its registration was deemed to be approved when in fact it was never received by NHTSA. An up-to-date list of registrants will show the “deemed to be approved” registrants, and the confirmation process better establishes a means of communication between NHTSA and the manufacturer to achieve this end. The list will be important to enable members of the public to check whether the low-volume manufacturer they are dealing with in fact qualifies for an exemption under this replica vehicle program and which vehicles are covered by the exemption. The list will also provide NHTSA with a strong enforcement mechanism to monitor if manufacturers are lawfully presenting themselves as registrants and to check which vehicles they are offering for sale, a mechanism that would better ensure that only vehicles covered by approved and deemed to be approved registrations are being manufactured and sold.

NHTSA is proposing that, in the case that a registration is deemed approved, NHTSA may request additional information from a “deemed approved” replica manufacturer when the registration submission is incomplete or does not meet the requirements in the new Part 586. NHTSA is proposing that, when notified of the submission's shortcomings, the manufacturer would have 60 days to submit information to correct and/or complete the registration. If the manufacturer fails to submit the requisite information, NHTSA may revoke the registration.

NHTSA requests comment on requirement for “deemed approved” replica manufacturers to respond within 60 days. NHTSA also requests comment on what actions NHTSA should take in regards to revoking a “deemed approved” replica manufacturer. For purposes of this NPRM, NHTSA is proposing to revoke a registration if the manufacturer fails to respond within the allotted time. At NHTSA's discretion, additional time may be provided if the deficiencies of the registration are deemed correctable. And, consideration would be provided for the length of time that NHTSA took to identify the deficiency and the extent that the manufacturer should have been aware that the registration did not comply with the requirements.

49 U.S.C. 30114(b)(5) specifies that NHTSA has the authority to revoke a registration based on a failure to comply with requirements or a finding of a safety-related defect or unlawful conduct.

Section 30114(b)(5) also states that an exemption granted to a low-volume manufacturer may not be transferred to any other person, and expires at the end of the calendar year for which it was granted with respect to any volume authorized by the exemption that was not applied by the manufacturer to vehicles built during that calendar year. NHTSA understands 49 U.S.C. 30114(b)(5) to address the vehicles that could have been made under an exemption in a calendar year but which were not, and not as requiring that manufacturers must re-register (renew their registrations) annually. NHTSA has tentatively decided that registrants may carry forward their registration by informing NHTSA in an annual report (discussed below) of their intent to continue manufacturing the vehicles covered by the approved registration, and need not formally re-register annually at the end of the calendar year concerning those covered vehicles. If an approved replica manufacturer wishes to manufacture a different replica vehicle or make modifications to a replica covered by an existing registration, the registrant must submit an update to their existing registration with all necessary supporting documentation. 49 U.S.C. 30114(b)(5) specifies that NHTSA must maintain an up-to-date list of registrants and a list of the make and model of exempted motor vehicles on at least an annual basis and publish such list in the Federal Register or on a website operated by NHTSA. We anticipate posting such a list on NHTSA's website where it can be easily accessed and updated.

VII. Other Administrative Requirements

a. Manufacturer Identification Requirements (49 CFR Part 566)

NHTSA is proposing an amendment to Part 566 to list replica motor vehicles among the types of vehicles manufactured. Manufacturers who have already submitted information under Part 566 would be required to update their information as required by § 566.6 before manufacturing replica vehicles.

The addition of replica motor vehicles to the types of vehicles is merely for identifying the vehicle as a replica and does not supplant the vehicle's type for application of FMVSS. The manufacturer of a replica vehicle would determine which standards the replica vehicle is exempt from by looking at the standards for a vehicle of that body type and the VIN and certification labels would reflect that the vehicle is a replica of a specific body type (e.g., replica passenger car).

In addition, NHTSA is proposing to update ²⁶ § 566.5 to indicate that the required information for all manufacturers may either be submitted via mail or the vPIC portal.²⁷ Replica motor vehicle manufacturers, however, would be required under § 586.6 to submit the required Part 566 information via vPIC. Due to the potential for delay when filing outside the vPIC portal, either due to errors or delivery delays, most, if not all Part 566 manufacturer identification entries are currently being submitted on vPIC.

²⁶ The existing address in this section is an out-of-date address for NHTSA.

²⁷ https://vpic.nhtsa.dot.gov/.

b. Manufacturer Identifier

Replica motor vehicle manufacturers would need to obtain a manufacturer identifier in this program, like other manufacturers are currently required to do. Currently, a manufacturer that intends to manufacture motor vehicles for sale or introduction into interstate commerce in the United States must obtain a manufacturer identifier from SAE International. The manufacturer identifier is incorporated into the vehicle's VIN (see section below). NHTSA has a contract with SAE International to assign manufacturer identifiers to manufacturers in the United States. Manufacturers would contact SAE International directly (and not NHTSA) to request the assignment of a manufacturer identifier. They would do so by telephoning 724-772-8511 or by writing to: SAE International, 400 Commonwealth Avenue, Warrendale, PA 15096, Attention: WMI Coordinator.

c. VIN

NHTSA's regulations at 49 CFR part 565 require, among other things, a motor vehicle manufacturer to assign each motor vehicle manufactured for sale in the United States a 17-character VIN that uniquely identifies the vehicle. Under regulations administered by NHTSA, a vehicle identification number is “a series of Arabic numbers and Roman letters that is assigned to a motor vehicle for identification purposes.” (49 CFR 565.12(r)).

VINs serve a variety of public safety purposes. One of the original purposes of the VIN requirements was to enhance public safety by deterring vehicle theft based on the assumption that drivers of stolen vehicles are more likely to operate those vehicles unsafety and thus be involved in vehicle crashes.²⁸ The current VIN system continues to serve this purpose and, as stated in Part 565, also serves “to increase the accuracy and efficiency of vehicle recall campaigns.” ²⁹ The VIN has also become the key identifier in data systems that track such things as compliance with Federal importation regulations, vehicle registrations, insurance coverage, and motor vehicle crashes. Entities that today utilize VINs in data systems include NHTSA, state motor vehicle departments, law enforcement agencies, insurance companies, organizations involved in motor vehicle research, and manufacturers.³⁰

²⁸ 73 FR 23367-01, September 30, 2008.

²⁹ 49 CFR 565.10.

³⁰ 73 FR 23367-01, September 30, 2008.

NHTSA has considered whether changes are required to the regulations at 49 CFR part 565 for replica motor vehicles. The first section of the VIN (positions 1-3) uniquely identifies the manufacturer and type of the motor vehicle if the manufacturer is a high-volume manufacturer. If the manufacturer is a low-volume manufacturer, positions one through three along with positions twelve through fourteen in the VIN must uniquely identify the manufacturer and the type of the motor vehicle. The manufacturer identifier occupies the first three characters of the VIN for manufacturers that produce 1,000 or more vehicles of a specified type within a model year, and positions 1, 2, 3, 12, 13, and 14 of VINs assigned by manufacturers that produce less than 1,000 vehicles of a specified type of motor vehicle per model year. Because this proposal would create a new vehicle type for replica motor vehicles in Part 565 and each manufacturer is limited to manufacturing 325 replica vehicles per year, all manufacturers of replica vehicles would need to obtain new manufacturer identifiers that contain six characters. Therefore, even existing manufacturers who are manufacturing passenger cars would need to obtain new manufacturer identifier to manufacture replica passenger cars. However, the same identifier could be used for manufacturing different vehicle types. The vehicle type of the replica vehicles (e.g., passenger car, MPV) would be indicated in positions four through eight.

The second section of the VIN (positions 4-8) is known as the “Vehicle Descriptor Section.” This section contains information on vehicle attributes, which vary based on the vehicle's type classification (i.e., passenger car, multipurpose passenger vehicle, truck, bus, trailer, motorcycle, low speed vehicle).

The third section (position 9) is a check digit, used to determine whether the remainder of the VIN is properly configured.

The fourth section (positions 10-17) contains a variety of information. Position 10 represents the vehicle's model year. NHTSA interprets model year for the purposes of this replica vehicle program as the calendar year in which the vehicle was manufactured, and not, in the case of replica motor vehicles, the year the vehicle being replicated was originally manufactured. While these vehicles will be exempt from vehicle FMVSS, this information will be important for enforcement purposes. As discussed below, NHTSA is also required to include reporting requirements in this regulation, and NHTSA has proposed requirements that distinguish the year of manufacture from the year the replicated vehicle was manufactured.

Position 11 is the plant code, assigned by the manufacturer and reported to NHTSA.

For manufacturers of replica motor vehicles, positions 12-14 will be the remainder of the manufacturer identifier, which, with the characters in positions 1-3 of the VIN, uniquely identify the manufacturer and vehicle type for manufacturers that produce less than 1,000 vehicles of that type per model year. Positions 15-17 are the numbers sequentially assigned by the manufacturer during the production process.

NHTSA is proposing to amend the second section (Vehicle Descriptor Section), positions 4-8, of the VIN to include specific vehicle attributes for replica vehicles. Within positions 4-8, the manufacturer must identify, in addition to the attributes specified in table I of Part 565 for the vehicle's type classification (i.e., passenger car, multipurpose passenger vehicle, truck bus) that the vehicle is a replica.

This information would be important to NHTSA for tracking the safety of the replica motor vehicles and for other purposes. It also may be desirable to the States, which are permitted to regulate these vehicles under the provisions of the FAST Act.

NHTSA is also proposing amendments to Table I of § 565.15 which would require replica manufacturers to encode the make, model, and model year of the original replicated vehicle into the replica vehicle's VIN.

NHTSA is requesting comment on the proposed VIN requirements for replica motor vehicles.

d. Certification

Section 30114(b)(3)(a) directs NHTSA to require low-volume manufacturers to affix permanent labels to the exempted vehicles that identify the specified standards and regulations for which the vehicle is exempt, states that the vehicle is a replica, and designates the model year such vehicle replicates. NHTSA considered whether the label should be conspicuous or whether it should be in the same location as the certification labels required under 49 CFR part 567. While NHTSA believes that consumers should be provided a conspicuous warning label, NHTSA believes that aim is better accomplished by a requirement that manufacturers affix a temporary label, as discussed below.

To satisfy the requirement to have a permanent label, NHTSA is proposing requirements similar to those for certification labels that are required under 49 CFR part 567. NHTSA believes these labels will provide necessary information about the safety of the replica vehicle without detracting from the customer experience. NHTSA requests comments regarding the permanent label's placement and content requirements.

49 CFR part 567 includes permanent labeling requirements for motor vehicles to implement the certification requirements of 49 U.S.C. 30115. This NPRM proposes amendments to Part 567 to include a specific provision for certifying replica vehicles. Most of the requirements would be the same as those for non-replica vehicles.

For example, NHTSA is first proposing that § 567.4(a) be amended to include “replica motor vehicles” in the list of vehicles that are exempt from those requirements. Section 567.3 would be amended to include a definition of “replica motor vehicles” as discussed above. Next, new requirements for replica motor vehicles would be added in a similar format to the existing requirements. NHTSA is proposing to include the requirements in a new § 567.8. Many of the requirements would be the same or similar to those for other vehicles, such as the location on the vehicle where the label is to be affixed, as well as the contents of the label, including manufacturer name, month and year of manufacture, VIN, GVWR, vehicle type classification, and gross vehicle and gross axle weight ratings.

However, as amended by the FAST Act, 49 U.S.C. 30114(b)(3)(A) specifies that NHTSA shall require low-volume manufacturers to affix a permanent label to motor vehicles produced pursuant to a replica vehicle exemption. The label must identify the specified standards and regulations from which the replica vehicle is exempt under 49 U.S.C. 30112(a), state that the vehicle is a replica, and designate the model year such vehicle replicates. NHTSA is proposing that the requirements for permanent labeling be incorporated into the requirements for certification labels under 49 CFR part 567. NHTSA is proposing to incorporate the permanent label requirements for replica motor vehicles in the certification section to avoid duplicative requirements.

Details of the proposed permanent label requirements are discussed in a section below.

e. Importation of Replica Motor Vehicles

Imported replica vehicles will be subject to requirements in Part 591, Importation of Vehicles and Equipment Subject to Federal Safety, Bumper and Theft Prevention Standards. Section 591.5, Declarations required for importation, requires importers to file declarations and documentations with U.S. Customs and Border Protection at the time vehicles or items of motor vehicle equipment are imported. Consistent with NHTSA's treatment of vehicles that are subject to exemptions under Part 555, Temporary Exemption from Motor Vehicle Safety and Bumper Standards, replica vehicles will be permitted to be imported pursuant to 49 CFR 591.5(b). This means that importers will mark box “2A” on NHTSA's HS-7 declaration form, Importation of Motor Vehicles and Motor Vehicle Equipment Subject to Federal Motor Vehicle Safety, Bumper when importing a replica motor vehicle. NHTSA requests comment on whether the agency should amend 49 CFR 591.5 to provide clarity and include specific language that states that replica vehicles may be imported pursuant to a declaration under 49 CFR 591.5(b).

VIII. Labels and Other Consumer Disclosures

a. Permanent Label

As amended by the FAST Act, 49 U.S.C. 30114(b)(3)(A) specifies that NHTSA shall require low-volume manufacturers to affix a permanent label to motor vehicles produced pursuant to a replica vehicle exemption. NHTSA is proposing that the requirements for replica labeling be incorporated into the requirements for certification labels under 49 CFR part 567 because Part 567 includes permanent labeling requirements for motor vehicles pertaining to certification to the FMVSS.

Part 567 currently requires manufacturers to certify that the vehicle conforms to all applicable FMVSS. This NPRM proposes a different statement for replica vehicles. For replicas, the label would state that the vehicle is a replica, and designate the model year such vehicle replicates. The label would state that the vehicle is exempt from FMVSS that apply to a vehicle of its type and include a list of all vehicle FMVSS and regulations the vehicle does not meet.

b. Written Notice to Dealers and First Purchasers

The FAST Act permits NHTSA to require registrants to provide “written notice of the exemption” to dealers and first purchasers of replica vehicles.³¹ Accordingly, NHTSA proposes to require a written disclosure to dealers and first purchasers of these vehicles which would consist of a list of the FMVSS and regulations from which the vehicle is exempt. To better inform consumers, NHTSA is proposing that the manufacturers provide a “purpose” statement for each standard and regulation from which the vehicle is exempt. The purpose statement would assist consumers in understanding the safety implications of the exemptions.

³¹ 49 U.S.C. 30114(b)(3)(B).

NHTSA has proposed purpose statements for each of the standards and regulations covered by the replica vehicle exemptions for inclusion in a table to Part 586. NHTSA is proposing using slight revisions of the existing “purpose” statements set forth at the beginning of each NHTSA regulation and standard in the CFR. NHTSA is asking for comments about whether the statements are easy to understand. The agency also requests comment on whether the table is needed or desirable. Registrants could research the CFR and provide the purpose statements on their own without NHTSA's intervention and without the need for NHTSA to conduct rulemaking to amend the table as necessary.

c. Temporary Label

To draw the potential purchaser's attention to the written disclosure and to better inform consumers about the safety implications of their purchasing decisions, NHTSA is proposing a requirement that each replica vehicle have a temporary label on the dashboard or steering wheel hub, similar to the temporary air bag warning required by 49 CFR 571.208 S4.5.1(e) when the vehicle is offered for sale. NHTSA is proposing that the label conform to the color and size requirements of 49 CFR 571.208 S4.5.1(e)(1)(i) and (ii), and include the following statement in at least 20-point font: “This motor vehicle does not conform to all applicable Federal motor vehicle safety standards. Refer to the written disclosures provided for further information.” Comments are requested on whether there are more effective means of warning consumers about the replica vehicles' nonconformance with the applicable FMVSS, such as whether the warning should also be provided on advertisements and other marketing materials for the vehicles. NHTSA also requests comment on the appropriate minimum lettering size for the temporary warning label. Specifically, NHTSA requests comment on whether the requirement that the warning statement be in 20-point font or larger is appropriate to ensure legibility and conspicuity.

IX. Reporting

Under 49 U.S.C. 30114(b)(3)(C), NHTSA must require replica manufacturers to submit an annual report providing the number and description of motor vehicles exempted as replica motor vehicles, including a list of the exemptions included on the mandatory label described above. Because of this requirement, NHTSA is proposing to specify that “replica model year” for replica motor vehicles must correspond to the calendar year in which the replica was manufactured. This would differ from “Original model year of a replicated vehicle,” which would be the year in which the vehicle being replicated was originally manufactured.

NHTSA is also proposing that annual reports must be submitted within 60 days of the end of the calendar year. Because these vehicles would be produced in limited quantities, NHTSA believes that the information for the report could be entered after each vehicle is manufactured and that meeting a 60-day deadline for submitting the report at the end of the calendar year is therefore reasonable.

NHTSA is proposing to require that annual reports include:

—Manufacturer's legal name;

—Manufacturer's address and phone number and email address;

—The calendar year for which the annual report is submitted (replica model year) and the total number of replica vehicles manufactured during that year.

—List of the different versions of replica motor vehicles produced by make, model, and original model year of replicated vehicle.

—List of the FMVSS and regulations from which each version of replica vehicle (by make, model, and original model year of replicated vehicle) is exempt.

—Images of the front, rear, and side views of the original vehicle(s) replicated, of both the vehicle's exterior, and images of the same views of a representative replica manufactured to resemble each original vehicle.

—Full complete descriptive information, views, and arguments sufficient to establish that the replica motor vehicles, as manufactured, resemble the body of the original vehicle;

—The complete Vehicle Identification Number (VIN) of each replica vehicle manufactured.

—Statement as to whether the replica vehicle contains any of the following vehicle safety features:

○ Air bags

○ Seat belts

○ Advanced safety systems/passive safety systems (listed w/locations)

○ Electronic Stability Control

○ Rear visibility camera system

Statement of whether to the registrant will be manufacturing the same replica motor vehicle(s) in the next calendar year and if so, how many vehicles it will be manufacturing.³² If the manufacturer intends to continue manufacturing replica motor vehicle(s), the manufacturer must also submit information sufficient to establish that their annual world-wide production, including by a parent or subsidiary of the manufacturer, if applicable, is not more than 5,000 motor vehicles, and a statement certifying to that effect, including the total number of motor vehicles produced by or on behalf of the registrant in the 12-month prior to filing the registration.

³² Section 30114(b)(5) states that an exemption shall expire at the end of the calendar year for which it was granted with respect to any volume authorized by the exemption that was not applied by the low-volume manufacturer to vehicles built during that calendar year. NHTSA has tentatively decided not to require manufacturers to re-register (renew their registrations) annually, but instead may carry forward their registration by informing NHTSA in the annual report of their intent to continue manufacturing the vehicles covered by the approved registration.

NHTSA is proposing that the annual report must be submitted using the NHTSA Product Information Catalog and Vehicle Listing (vPIC). The website would be updated to accommodate the submission of the annual replica vehicle reports. NHTSA believes that the use of the online portal would be less burdensome than requiring manufacturers to submit their annual reports by mail. Online submission of the annual reports would also assist NHTSA in complying with the FAST Act requirement that NHTSA maintain a list of manufacturers of replica motor vehicles and the make and model of exempted vehicles being produced. NHTSA intends to maintain this list on its website as allowed by new subsection (b)(5) added to 49 U.S.C. 30114 by Sec. 24405(a) of the FAST Act. NHTSA requests comments on whether vPIC should be mandated for annual reports or whether manufacturers should have the option of sending them by mail.

NHTSA is proposing requiring a list of the complete VINs of all replica vehicles to be included in the annual report. This requirement will assist NHTSA in enforcing the annual limit of 325 replica vehicles per manufacturer. And, as manufacturers already maintain lists of all VINs manufactured in a given year, the burden should be very minimal.³³

³³ Although manufacturers keep lists for business purposes, it is also required by 49 CFR part 573, Defect and Non-Compliance Responsibility and Reports.

X. Revocation of Registrations

New subsection (b)(5) added to 49 U.S.C. 30114 by Sec. 24405 of the FAST Act specifies that NHTSA has the authority to revoke a registration “based on a failure to comply with requirements set forth in this subsection [of the FAST Act] or a finding by the Secretary of a safety-related defect or unlawful conduct under this chapter that poses a significant safety risk.” NHTSA is including this provision in the proposed Part 586 regulation.³⁴

³⁴ As stated in section 30114(b)(8), a low-volume manufacturer shall be considered a motor vehicle manufacturer for purposes of Title 49 subtitle VI parts A and C except as expressly provided. Therefore, replica manufacturers are subject to the same requirements as other manufacturers unless there is an express provision that exempts them, as replica manufacturers, from the requirement. Designation as a low-volume manufacturer under section 30114(b)(8) only applies in the context of exemptions for manufacturers of replica motor vehicles. Section 30114(b)(8) states that replica manufacturers will not be exempt from the requirements of 49 U.S.C. 30116 through 30120A which provide requirements for defects and noncompliance reporting, notification and remedies. NHTSA is not proposing any regulatory changes based on this provision. NHTSA requests comments about whether regulatory changes are necessary for clarification. If commenters believe regulatory changes are desirable, NHTSA requests that commenters provide details on what changes should be made.

NHTSA would like to emphasize that revocation of registrations is not NHTSA's only means of enforcement. NHTSA's defect and recall authority under 49 U.S.C. 30116 through 30120A continues to apply.

XI. Overview of Benefits and Costs

NHTSA has developed a Preliminary Regulatory Evaluation (PRE) that discusses the potential costs, benefits and other impacts of this regulatory action. The PRE is available in the docket for this NPRM and may be obtained by downloading it or by contacting Docket Management at the address or telephone number provided at the beginning of this document.

The table below provides a summary of the various benefits and costs that may accrue from this rule, as well as the various factors that define the range of possible outcomes.

Table 1—Ranges of Outcomes for Benefit and Cost Categories
Element | Low case | High case
Benefits:
Incremental consumer surplus | Not estimated: Incremental consumer surplus would be low if substitutes such as luxury sports cars and kit cars are viable alternatives for consumers | Not estimated: If replicas manufactured under the rule differ greatly in price and/or transaction cost from luxury sports cars and kit cars—thus behave more like a unique product—incremental consumer surplus could be high.
Incremental fatalities, injuries and property damage | Estimated: Fatalities would be lower if: Voluntary compliance with safety standards is high; production of replicas is on the low end; and VMT by replicas is also low. Not Estimated: Fatalities will be lower if replicas primarily function as a substitute for kit cars | Estimated: Fatalities would be higher if: Voluntary compliance is low; production is high; and if VMT is high. Not Estimated: Fatalities would be higher if replicas function as a new market that attracts new consumers—implying substitution from more compliant vehicles—or, if replica vehicle drivers choose to increase their VMT specifically to enjoy the replica vehicle, rather than as a substitute for mileage driven in substitute vehicles.
Innovation | Not Estimated: The proposed rule is primarily used to replicate old technology | Not Estimated: Manufacturers producing under the proposed rule seek to incorporate some newer technologies into replica vehicles. Could lead to innovation to make technology fit into older designs. (e.g., miniaturization).
Incremental employment impacts | Not Estimated: Job losses from contractors and small businesses that assemble kit cars are around or equal to the job gains for small replica manufacturers | Not Estimated: If kit car production remains relatively stable and replica car production increases significantly (consistent with case where replicas are a new and separate product category), employment effects would be greater.
Costs:
Mitigated compliance costs | Estimated: Captures the cost of installing required safety technologies on an average modern car | Not Estimated: Would consider the avoided costs of forcing required safety technologies into older vehicle designs.
Incremental fuel use | Not Estimated: Reflects low VMT | Not Estimated: Reflects high VMT.
Reporting costs | Estimated: Reflects low bound of production | Estimated: Reflects high bound of production.

NHTSA requests comment on the framework for the benefit cost analysis and preliminary estimates included in the analysis.

XII. Effective Date

NHTSA proposes to make the changes discussed in this NPRM effective immediately upon publication of the final rule in the Federal Register. The Administrative Procedure Act (APA) states that a rule cannot be made effective less than 30 days after publication, unless the rule falls under one of three enumerated exceptions. One of these exceptions is for a rule that “grants or recognizes an exemption or relieves a restriction.” ³⁵ This rule would fall under this exception because it would create a process through which manufacturers could obtain exemptions to manufacture replica vehicles.

³⁵ 5 U.S.C. 553(d)(1).

XIII. Regulatory Notices and Analyses

Executive Orders 12866 and 13563 and DOT Regulatory Policies and Procedures

OMB has determined that this rule is nonsignificant. The amendments proposed by this NPRM implement an exemption program mandated by section 24405 of the FAST Act for low-volume manufacturers involving a relatively small number of motor vehicles. Potential benefits include costs avoided by low-volume manufacturers when producing replica vehicles that would not be required to meet all the Federal regulations and FMVSS applicable to new motor vehicles. Potential benefits could also include increased consumer surplus, reduced barriers to innovation, and increased incremental employment impacts among small manufacturers. Safety impacts could result from crashes if replica vehicles do not meet certain safety standards. However, we expect the program to have no significant effect on the national economy, due to the small number of vehicles affected by this program.

Regulatory Reform (E.O. 13771 and E.O. 13783)

NHTSA has reviewed this proposed rule for compliance with E.O. 13771 (“Reducing Regulation and Controlling Regulatory Costs”), which requires Federal agencies to offset the number and costs of new regulations through the repeal, revocation, and revision of existing regulations. As provided in OMB Memorandum M-17-21 (“Implementing E.O. 13771”), a “regulatory action” subject to E.O. is a significant regulatory action as defined in section 3(f) of E.O. 12866 that has been finalized and that imposes total costs greater than zero.

For the reasons identified in the previous sections, this proposed rule is not a significant regulatory action under E.O. 12866 and is a “deregulatory action” under E.O. 13771 because its total costs to manufacturers will be less than zero.

Details on the estimated cost savings of this proposed rule are presented in the Preliminary Regulatory Evaluation. The document evaluates the economic impact, in terms of benefits and costs, on Federal, State, and local governments, as well as private entities regulated under this action and the public, as required by E.O. 12866 and E.O. 13563.

National Environmental Policy Act

The National Environmental Policy Act of 1969 (NEPA) (42 U.S.C. 4321-4347) requires Federal agencies to consider the environmental impacts of proposed major Federal actions significantly affecting the quality of the human environment, as well as the impacts of alternatives to the proposed action.³⁶ The FAST Act requires NHTSA to establish an exemption program for replica vehicles, and this action implements that exemption program and the procedural mandates in the Act. The aspects of the program under the jurisdiction of NHTSA that could have environmental impacts include the exemption from the FMVSS (including those that may affect motor vehicle fuel economy) and the exemption from average fuel economy standards that are both specifically prescribed by statute. Although the PRE considers the impacts of this proposal, NHTSA does not have the authority to consider alternatives that would subject replica vehicles covered under this program to the FMVSS or the average fuel economy standards in 49 U.S.C. 32902. Therefore, NHTSA is precluded from considering the environmental and safety impacts of those aspects of the replica vehicle exemption program in its rulemaking and is not required to address them in its Environmental Assessment.

³⁶ 42 U.S.C. 4332(2)(C).

When a Federal agency prepares an environmental assessment, the Council on Environmental Quality (CEQ) NEPA implementing regulations (40 CFR parts 1500 through 1508) require it to “include brief discussions of the need for the proposal, of alternatives [. . .], of the environmental impacts of the proposed action and alternatives, and a listing of agencies and persons consulted.” ³⁷ This section serves as the agency's Draft Environmental Assessment (Draft EA) for those aspects of the program for which NHTSA may exercise discretion. NHTSA invites public comments on the contents and tentative conclusions of this Draft EA.

³⁷ 40 CFR 1508.9(b).

This document sets forth the purpose of and need for this action. The purpose of this rulemaking is to implement the exemption program and the procedural mandates described in Section 24405 of the FAST Act, which directs NHTSA to exempt annually a limited number of replica motor vehicles manufactured or imported by low-volume manufacturers from the FMVSS that apply to motor vehicles, but not standards that apply to motor vehicle equipment. In addition, replica vehicles will be exempt from the requirements of 49 U.S.C. 32304, 32502, and 32902, as well as from section 3 of the Automobile Information Disclosure Act (15 U.S.C. 1232). This action is needed to implement a program to grant exemptions, as directed by Congress, for the manufacture of replica vehicles. NHTSA is also proposing labeling, consumer disclosure, and registration requirements to ensure adequate public awareness and agency oversight over these vehicles.

NHTSA seeks comment on all aspects of its proposal, including limitations on importers, application to vehicles manufactured in two or more stages, the use of vehicle logos and emblems as a requirement of resemblance, the requirement to have the same dimensions and outward appearance as the original vehicle, labeling requirements, and more. The above requests for public comment specifically describe alternative approaches to regulation that are being considered by the agency. NHTSA will consider all substantive public comments received and recommendations on alternatives in its final rule.

The aspects of the program over which NHTSA has the most discretion, including labeling requirements and registration, are not anticipated to have anything other than de minimis environmental impacts. These aspects of the program are largely ministerial in nature for replica vehicle manufacturers and importers and are not likely to result in a significant change in sales volumes. Further, NHTSA assumes that 40 low-volume manufacturers will produce between 4,000 and 8,000 replica vehicles annually, and the vehicles are expected to be driven, on average, no more than 2,280 miles per year. With regard to all aspects of the replica vehicle exemption program (including the exemption from the FMVSS and average fuel economy standards), these vehicles represent an extremely small fraction of overall motor vehicle sales and on-road VMT that will be disbursed throughout the country. As a result, they are unlikely to cause environmental impacts that could rise to any level of significance. NHTSA seeks comments on this analysis and whether there are any environmental impacts it has not considered that are relevant to a reasoned choice by the decisionmaker.

NHTSA and DOT have consulted with EPA in developing this proposal.

NHTSA has reviewed the information presented in this Draft EA and concludes that the proposed action and alternatives it may consider would have nothing more than de minimis impacts on the quality of the human environment. Based on the information in this Draft EA and assuming no additional information or changed circumstances, NHTSA expects to issue a Finding of No Significant Impact (FONSI). Such a finding will be made only after careful review of all public comments received. A Final EA and a FONSI, if appropriate, will be issued as part of the final rule.

Regulatory Flexibility Act

Pursuant to the Regulatory Flexibility Act (5 U.S.C. 601 et seq., as amended by the Small Business Regulatory Enforcement Fairness Act (SBREFA) of 1996), whenever an agency is required to publish an NPRM or final rule, generally it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). A regulatory flexibility analysis is not required if the head of the agency certifies that the action would not have a significant economic impact on a substantial number of small entities. The Regulatory Flexibility Act requires Federal agencies to provide a statement of the factual basis for certifying that a proposal would not have a significant economic impact on a substantial number of small entities.

In compliance with the Regulatory Flexibility Act, NHTSA has evaluated the effects of this proposed rule on small entities and has prepared an Initial Regulatory Flexibility Analysis (IRFA).

This proposed rule would directly impact low-volume manufacturers that choose to produce replica vehicles and that would fall under North American Industry Classification System (NAICS) Nos. 336111, 336112, and 336120 for Automobile Manufacturing, Light Truck and Utility Vehicle Manufacturing, and Heavy Duty Truck Manufacturing. According to 13 CFR 121.201, the Small Business Administration's size standards regulations used to define small business concerns, entities in these industries are small business concerns if they have 1,500 or fewer employees. NHTSA expects that most, if not all, replica manufacturers will have 1,500 employees or fewer. NHTSA estimates that up to 40 manufacturers will register as low-volume manufacturers of replica vehicles. However, as the Small Business Administration's regulations define a small business, in part, as a business entity “which operates primarily within the United States,” foreign manufacturers that participate in the replica vehicle program are not considered small businesses for the purposes of the Regulatory Flexibility Act.³⁸ Of the expected 40 such manufacturers, 10 of them are assumed to be foreign replica manufacturers.³⁹ Therefore, this proposed rule is expected to impact 30 small entities.

³⁸ 13 CFR 121.105(a).

³⁹ This assumption is based on the percent of all passenger cars sold in the US but are manufactured outside the U.S. Between January and August 2018, 76.1% of vehicles sold in the U.S. were produced domestically and 23.9% were imported. “U.S. light-vehicle sales by nameplate, August & 8 months.” Automotive News. September 10, 2018, pp. 56-7.

Until the FAST Act was enacted, all low-volume manufacturers of replica vehicles were subject to virtually the same Vehicle Safety Act requirements as the largest manufacturers when producing new motor vehicles. Occasionally, small manufacturers are given more time to comply with new FMVSS requirements, such as by having longer phase-in timelines to comply with new requirements, and can also petition for exemptions from certain FMVSS for limited periods of time on certain specific grounds.⁴⁰ However, notwithstanding the flexibility regarding compliance dates and limited-period exemptions, until the FAST Act, low-volume manufacturers of replica vehicles had the same responsibilities as larger manufacturers to certify their vehicles as complying with all FMVSS applying to the vehicle that were in effect on the day of manufacture of the vehicle. These FMVSS comprise standards applying to “equipment” and standards applying to the “vehicle” as a unit.

⁴⁰ Pursuant to 49 CFR part 555, a manufacturer may petition for a temporary exemption on the bases of substantial economic hardship, making easier the development or field evaluation of new motor vehicle safety or impact protection, or low-emission vehicle features, or that compliance with a standard would prevent it from selling a vehicle with an overall level of safety or impact protection at least equal to that of nonexempted vehicles.

The FAST Act allows low-volume manufacturers of replica vehicles registered in the proposed exemption program to manufacture vehicles that are exempt from meeting the “vehicle” FMVSS. NHTSA estimates that involvement in the proposed Part 586 exemption program would save low-volume manufacturers of replica passenger cars and light trucks, MPVs, and buses (LTVs) between $3.4 million and $17.2 million at a three-percent discount rate (between $3.3 million and $16.8 million at a seven-percent discount rate) annually resulting from the elimination of the requirement to comply with the vehicle FMVSS, fuel economy standards, bumper standards, and labeling requirements.⁴¹ This means that each replica vehicle manufacture would, on average, experience cost savings of between $85,000 and $430,000 annually at a three-percent discount rate and between $82,000 and $420,000 annually at a seven-percent discount rate.⁴² NHTSA expects this cost savings would have a significant positive economic impact on the 30 regulated small entities.

⁴¹ Additional detail on these estimates is provided in the Preliminary Regulatory Evaluation.

⁴² NHTSA divided the total cost savings by 40 because these estimates are based on NHTSA's assumption that there will be a total of 40 replica manufacturers producing, on average, 200 vehicles per year. In addition to the 30 replica manufacturers that NHTSA expects to be considered small businesses by SBA, the total cost savings also include savings to an estimated 10 replica manufacturers that would not be considered small businesses by SBA.

According to guidance provided by the SBA's Office of Advocacy, to determine whether the number of small entities significantly impacted is substantial, an agency may need to look not only at the number of significantly impacted entities, but also at the percentage of affected small entities so impacted.⁴³ In view of the fact that the proposal is expected to significantly economically impact 100 percent of the 30 regulated small entities, this would be a substantial number. Therefore, the replica vehicle program is expected to significantly economically impact a substantial number of small entities. Accordingly, NHTSA has prepared this Initial Regulatory Flexibility Act Analysis.

⁴³ U.S. Small Business Administration Office of Advocacy, A Guide for Government Agencies: How to Comply with the Regulatory Flexibility Act, 21-22 (August 2017), available at https://www.sba.gov/sites/default/files/advocacy/How-to-Comply-with-the-RFA-WEB.pdf (last accessed Oct. 15, 2018).

Overview of the Objectives of and Legal Basis for the Proposed Rule

NHTSA is proposing requirements in this NPRM to implement a program mandated under the National Traffic and Motor Vehicle Safety Act (Vehicle Safety Act), as amended by the Fixing America's Surface Transportation Act (the FAST Act). The FAST Act directs the NHTSA by delegation to exempt not more than 325 replica motor vehicles per year that are manufactured or imported by a low-volume manufacturer. The exemption must be limited to the FMVSS applicable to motor vehicles, not motor vehicle equipment.

NHTSA is issuing this NPRM proposing to establish 49 CFR part 586 to implement the replica motor vehicle exemption program.⁴⁴ NHTSA is proposing a new 49 CFR part 586 to establish the requirements and procedures for the registration of low-volume manufacturers as replica motor vehicle manufacturers and establishes the duties of the manufacturers.

⁴⁴ The FAST Act replica motor vehicle provision is not self-executing. That is, the Secretary must take steps to implement it.

Description and Estimate of the Number of Small Entities to Which the Rule, if Made Final, Will Apply; Compliance Impacts

This proposed rule would affect manufacturers who have a total annual worldwide production of 5,000 vehicles or less. According to 13 CFR 121.201, the Small Business Administration's size standards regulations used to define small business concerns, vehicle manufacturers would fall under North American Industry Classification (NAICS) No. 336111, Automobile Manufacturing, which has a size standard of 1,000 employees. Using the size of 1,000 employees or fewer, NHTSA estimates that most, if not all, of the manufacturers that would produce replica vehicles would be small businesses. NHTSA estimates that there will be approximately 40 manufacturers that will take advantage of this program and manufacture replica vehicles under the replica vehicle exemption program.

Although this proposed rule would affect small manufacturers, we do not anticipate that the proposed rule would have a significant negative economic impact. Instead, this proposed rule should reduce compliance costs for the small businesses that produce replica vehicles under the exemption program. NHTSA estimates that manufacturers will save between $3.4 million and $17.2 million at a three-percent discount rate (between $3.3 million and $16.8 million at a seven-percent discount rate) annually. The cost savings result from low-volume manufacturers no longer having to conform their vehicles to the “vehicle” FMVSS.

A Description of the Projected Reporting, Record Keeping and Other Compliance Requirements of the Proposed Rule, Including an Estimate of the Classes of Small Entities Which Will Be Subject to the Requirement and the Type of Professional Skills Necessary for Preparation of the Report or Record

The proposed rule contains reporting, record keeping and other compliance requirements to implement the replica vehicle program. All the proposed reporting and record keeping requirements discussed below are mandated or contemplated by the FAST Act or are essential to carrying out the statute.

First, in accordance with the FAST Act, low-volume manufacturers wishing to qualify for an exemption must register with NHTSA in accordance with this proposed regulation. The FAST Act mandates this registration requirement in section 30114(b)(1)(B)(2), specifying that “a low-volume manufacturer shall register with [NHTSA] at such time, in such manner, and under such terms that [NHTSA] determines appropriate.” NHTSA estimates that it would take each manufacturer 10 hours to draft and compile the submission. At an estimated cost of $48.47 per hour,⁴⁵ this burden would cost each manufacturer $484.70 one time for each original vehicle the manufacturer seeks to replicate.

⁴⁵ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

Second, in accordance with the FAST Act, manufacturers of replica vehicles would be required to submit annual reports. The annual reports are required by section 30114(b)(1)(C), which specifies that the annual report include the number and description of the motor vehicles exempted and a list of the exemptions described on a permanent label required by section 30114(b)(3)(A) (described below). The agency proposes that the annual report would be submitted online. In lieu of a requirement that registrants renew their registrations, the NPRM proposes only to require registrants to report to NHTSA if they will be producing the same replica motor vehicles the following calendar year. NHTSA estimates that compiling and submitting the annual report would take two hours and would involve primarily administrative skills. NHTSA estimates that labor to compile the report would cost $48.47 per hour, for a total cost to compile the report of $96.94.⁴⁶

⁴⁶ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

Third, in accordance with the FAST Act, the proposed rule would also require the registrants to disclose information to consumers. Because the replica vehicles would be exempt from complying with current FMVSS, it is important that the consumer understand the reduced level of safety provided by the vehicle. In accordance with a mandate in section 30114(b)(3)(A), the NPRM would require registrants to affix a permanent label to the vehicle identifying the specified standards and regulations from which the vehicle is exempt, stating that the vehicle is a replica, and designating the model year such vehicle replicates. In accordance with discretion provided to NHTSA in section 30114(b)(3)(B), the proposed rule would require registrants to provide written notice of the exemption to the dealer and the first purchaser of the vehicle for purposes other than resale. NHTSA estimates that the consumer disclosures would cost $1 per vehicle and the temporary labels would cost $1 per vehicle. If each manufacturer manufacturers 200 vehicles, the total cost per manufacturer would be $400 for both the consumer disclosures and the temporary labels.

An Identification, to the Extent Practicable, of All the Relevant Federal Rules Which May Duplicate, Overlap, or Conflict With the Final Rule

NHTSA does not know of any Federal rules which duplicate, overlap, or conflict with this proposal.

A Description of any Significant Alternatives to the Proposed Rule That Accomplish the Stated Objectives of the Applicable Statutes and Minimize any Significant Economic Impact of the Final Rule on Small Entities

The FAST Act provision directing the establishment of the replica exemption program prescribes specific requirements that limit NHTSA's discretion to adopt different regulatory approaches. For the purpose of evaluating regulatory alternatives under the requirements of the Regulatory Flexibility Act, NHTSA considers here not only alternatives that are within NHTSA's discretion, but also alternatives that are not permitted by statute. The alternative approaches impact: Which entities may participate in the replica vehicle program; the safety performance of replica motor vehicles; requirements for replica vehicles to resemble the original vehicle; and reporting and informational requirements.

First, NHTSA is considering limiting the exemption program to replica vehicles that are built in one stage or, alternatively, allowing replica vehicles to be manufactured in two or more stages, if they are produced under a registration that was jointly submitted to NHTSA by all of the low-volume manufacturers involved with the production of the vehicle. These two alternative approaches would impact which entities would qualify for the replica vehicle exemption program. NHTSA is requesting comment on these approaches out of concern about administering the program and the belief that some of the requirements for the program could not be met if the vehicle is built in more than one stage. NHTSA does not have sufficient data to quantify the impact of this alternative approach and requests comment.

Second, there are alternatives that would impact the safety performance of replica vehicles. Although not permitted by statute, one alternative would be to take no action. This alternative, to maintain the status quo, is demonstrably more burdensome to manufacturers. NHTSA estimates that each replica manufacturer that participates in the exemption program would, on average, realize cost savings of between $85,000 and $430,000 annually (at a three-percent discount rate) and between $82,000 and $420,000 annually at a seven-percent discount rate; maintaining the status quo would forego these cost savings. Another alternative would be to require that replica motor vehicles resemble not only the original vehicle's exterior, but also its interior and its conformance with FMVSS in effect when the original vehicle was manufactured. NHTSA has not quantified the impact of this approach, but NHTSA has concluded that it would significantly increase the burden on small entities compared to the current proposal. This conclusion is based on data from NHTSA's Preliminary Regulatory Evaluation that estimates the savings that manufacturers may realize in manufacturing vehicles that are exempt from the FMVSS applicable to vehicles. Although NHTSA is not proposing the requirement to replicate the safety performance of the original vehicle, NHTSA is requesting comment to inform future decision-making.

Third, NHTSA considered some alternative approaches to ensuring that vehicles exempted under Part 586 meet the definition for “replica motor vehicle” in the FAST Act. The definition states that a replica motor vehicle “is intended to resemble the body of another motor vehicle.” To balance objectivity, feasibility, and enforceability, NHTSA is proposing to require manufacturers to submit images with each registration and documentation confirming that the replica vehicle will have the same dimensions (height, width, and length) as the original vehicle. Alternatively, NHTSA could have proposed either (1) no requirements for resemblance; or (2) requirements that replica vehicles have the exact specifications of the original vehicle and fully replicate not only the exterior of the original, but also its interior. NHTSA believes the proposal strikes the right balance between ensuring that the program is limited, as Congress intended, to vehicles that resemble previously-made vehicles while not unduly burdening low-volume manufacturers. NHTSA decided not to propose requiring the more stringent requirements because NHTSA recognizes that obtaining exact specifications for original vehicles may be difficult and allowing manufacturers to incorporate modern amenities and safety features in the interior would enable a greater range of alternatives to customers in terms of (improved) vehicle attributes and safety. NHTSA, however, thought some minimum requirements would help bring some objectivity to NHTSA's evaluation of whether a vehicle met the statutory definition of “replica motor vehicle.” NHTSA also believes that most replica manufacturers will act in good faith to ensure resemblance with the original and, even in the absence of requirements, will be motivated to closely replicate the original vehicle in appearance for marketing purposes. Therefore, although NHTSA does not have data to quantify the impact of the proposed approach, NHTSA does not expect the proposed requirements related to resemblance to generate any significant incremental burden for replica vehicle manufacturers.

Fourth, there are some alternatives that would impact the amount of information replica manufacturers would be required to submit to NHTSA or disclose to members of the public. The new requirements that are specific to replica vehicles include: Registration requirements, annual reporting, temporary labels, and consumer disclosures. Some alternatives are within NHTSA discretion, such as not requiring the submission of images with registration and annual reports. Others, like requiring less frequent reporting are not. Because the FAST Act provision requires annual reporting, NHTSA does not have discretion to require reporting only ever two or five years. NHTSA also does not have the discretion to collect less information in the annual report than is required by the FAST Act. In proposing these requirements, NHTSA considered that most, if not all, of replica vehicle manufacturers would be small entities; NHTSA estimated the costs associated with these requirements with this in mind, as well. NHTSA estimates the total cost associated with these requirements to be less than $1,500 for each replica manufacturer annually (approximately $4-$5 per vehicle if producing the maximum number of replica vehicles allowed per year). Thus, NHTSA does not believe these requirements will be burdensome to manufacturers, and does not believe less stringent requirements would constitute significant alternatives because the cost savings per vehicle would be minimal.

Accordingly, NHTSA does not believe there are any significant alternative approaches which would not only accomplish all the objectives of the rulemaking and NHTSA's statutory mandate under the FAST Act, but also minimize burden on small entities. NHTSA invites public comment on this tentative conclusion and whether there are workable significant alternative approaches for small entities that the agency should consider.

E.O. 13132 (Federalism)

NHTSA has examined this proposed rule pursuant to E.O. 13132 (64 FR 43255, August 10, 1999) and concluded that no additional consultation with States, local governments or their representatives is mandated beyond the rulemaking process. The agency has concluded that the rulemaking would not have sufficient federalism implications to warrant consultation with State and local officials or the preparation of a federalism summary impact statement. The proposed rule would not have substantial direct effects on the States, on the relationship between the national government and the States, or on the distribution of power and responsibilities among the various levels of government.

The FAST Act provision directing NHTSA to allow low-volume manufacturers registering with NHTSA to produce replica vehicles contains two unique provisions that have preemption implications.⁴⁷ The first provision, section 30114(b)(6), provides protection to the original manufacturer, its successor or assignee, or current owner, who grants a license or otherwise transfers rights to a low-volume manufacturer to produce replicas of vehicles. The Act states that those persons shall incur no liability to any person or entity under Federal or State statute, regulation, local ordinance, or under any Federal or State common law for such license or assignment to a low-volume manufacturer. This legislative command is set forth in the FAST Act and this proposed rule has no effect on that directive.

⁴⁷ NHTSA does not believe regulation is necessary to implement those provisions.

The second provision, section 30114(b)(9), states that nothing in the “exemption for low-volume manufacturers” subsection of the Act shall be construed to preempt, affect, or supersede any State titling or registration law or regulation for a replica motor vehicle, or exempt a person from complying with such law or regulation. NHTSA interprets this section to mean that States may have their own replica motor vehicle standards for the vehicles to be titled or registered in that State. NHTSA also interprets this provision to mean that NHTSA's requirements for replica motor vehicles are intended to be minimum requirements only. Therefore, States may have higher safety requirements for replica vehicles than prescribed by NHTSA to be titled or registered in that State.

In terms of preemption generally and the FMVSS, NHTSA rules can preempt in two ways. First, the National Traffic and Motor Vehicle Safety Act contains an express preemption provision under 49 U.S.C. 30103(b)(1): When a motor vehicle safety standard is in effect, a State or political subdivision of State may prescribe or continue in effect a standard applicable to the same aspect of performance of a motor vehicle or motor vehicle only if the standard is identical to the standard prescribed under 49 U.S.C. 30103(b)(1). It is this statutory command by Congress that preempts any non-identical State legislative and administrative law addressing the same aspect of performance.

The express preemption provision described above is subject to a savings clause under 49 U.S.C. 30103(e), which states that compliance with a motor vehicle safety standard prescribed under this chapter does not exempt a person from liability at common law. Pursuant to this provision, State common law tort causes of action against motor vehicle manufacturers that might otherwise be preempted by the express preemption provision are generally preserved. However, the Supreme Court has recognized the possibility, in some instances, of implied preemption of such State common law tort causes of action by virtue of NHTSA's rules, even if not expressly preempted. This second way that NHTSA rules can preempt is dependent upon there being an actual conflict between an FMVSS and the higher standard that would effectively be imposed on motor vehicle manufacturers if someone obtained a State common law tort judgment against the manufacturer, notwithstanding the manufacturer's compliance with the NHTSA standard. Because most NHTSA standards established by an FMVSS are minimum standards, a State common law tort cause of action that seeks to impose a higher standard on motor vehicle manufacturers will generally not be preempted. However, when such a conflict does exist—for example, when the standard at issue is both a minimum and a maximum standard—the State common law tort cause of action is impliedly preempted. See Geier v. American Honda Motor Co., 529 U.S. 861 (2000).

Pursuant to Executive Order 13132 and 12988, NHTSA has considered whether this proposed rule could or should preempt State common law causes of action. The agency's ability to announce its conclusion regarding the preemptive effect of one of its rules reduces the likelihood that preemption will be an issue in any subsequent tort litigation.

To this end, the agency has examined the nature (e.g., the language and structure of the regulatory text) and objectives of this proposal and finds that this proposed rule, like many NHTSA rules, would prescribe only a minimum safety standard. As such, NHTSA does not intend that this proposal preempt State tort law that would effectively impose a higher standard on motor vehicle manufacturers than that to be established by this proposal. Establishment of a higher standard by means of State tort law would not conflict with the minimum standard announced here. Without any conflict, there could not be any implied preemption of a State common law tort cause of action.

Proposed 49 CFR part 586 would be issued as a regulation, not as an FMVSS, so the express preemption provision under 49 U.S.C. 30103(b)(1) does not apply to matters relating to Part 586. Therefore, NHTSA has concluded that this rulemaking will not preempt State law and does not require additional consultation with States and local governments.

E.O. 12988 (Civil Justice Reform)

When promulgating a regulation, E.O. 12988, “Civil Justice Reform” (61 FR 4729; February 7, 1996), specifically requires that the agency must make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

Pursuant to this Order, NHTSA notes as follows. The preemptive effect of this proposal is discussed above in connection with E.O. 13132. NHTSA has also considered whether this rulemaking would have any retroactive effect. This proposed rule does not have any retroactive effect. NHTSA notes further that there is no requirement that individuals submit a petition for reconsideration or pursue other administrative proceeding before they may file suit in court.

E.O. 13609: Promoting International Regulatory Cooperation

Under E.O. 13609 (77 FR 26413, May 4, 2012), agencies must consider whether the impacts associated with significant variations between domestic and regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements. Sections 3 and 4 of E.O. 13609 direct an agency to conduct a regulatory analysis and ensure that a proposed rule does not cause unnecessary obstacles to foreign trade. This requirement applies if a rule constitutes a significant regulatory action, or if a regulatory evaluation must be prepared for the rule.

NHTSA has analyzed this action under the policies and agency responsibilities of E.O. 13609, and has determined that this action would have no effect on international regulatory cooperation. NHTSA requests public comment on whether regulatory approaches taken by foreign governments concerning the subject matter of this rulemaking and the above policy statement have any implications for this rulemaking.

National Technology Transfer and Advancement Act

Under the National Technology Transfer and Advancement Act of 1995 (NTTAA) (Pub. L. 104-113), all Federal agencies and departments shall use technical standards that are developed or adopted by voluntary consensus standards bodies, using such technical standards to carry out policy objectives or activities determined by the agencies and departments, except when use of such a voluntary consensus standard would be inconsistent with the law or otherwise impractical. Voluntary consensus standards are technical standards (e.g., materials specifications, test methods, sampling procedures, and business practices) that are developed or adopted by voluntary consensus standards bodies, such as the SAE International. The NTTAA directs NHTSA to provide Congress, through OMB, explanations when the agency decides not to use available and applicable voluntary consensus standards. NHTSA has searched for but did not find any voluntary consensus standards that would apply to this proposal.

Unfunded Mandates Reform Act

The Unfunded Mandates Reform Act of 1995 (UMRA) requires Federal agencies to prepare a written assessment of the costs, benefits and other effects of proposed or final rules that include a Federal mandate likely to result in the expenditure by State, local or tribal governments, in the aggregate, or by the private sector, of more than $100 million annually (adjusted for inflation with base year of 1995).

Before promulgating a rule for which a written statement is needed, section 205 of the UMRA generally requires NHTSA to identify and consider a reasonable number of regulatory alternatives and adopt the least costly, most cost-effective, or least burdensome alternative that achieves the objectives of the rule. The provisions of section 205 do not apply when they are inconsistent with the applicable law. Moreover, section 205 allows NHTSA to adopt an alternative other than the least costly, most cost-effective, or least burdensome alternative if the agency publishes with the final rule an explanation why the agency did not adopt the alternative.

This proposed rule is not anticipated to result in the expenditure by State, local, or tribal governments, in the aggregate, or by the private sector in excess of 100 million, $154 million when adjusted for inflation, annually.

Paperwork Reduction Act

Under the procedures established by the Paperwork Reduction Act of 1995 (PRA), a person is not required to respond to a collection of information by a Federal agency unless the collection displays a valid Office of Management and Budget (OMB) control number. The Information Collection Requests (ICR) for a proposed new information collection and proposed revisions to the existing information collections described below have been forwarded to the Office of Management and Budget (OMB) for review and comment. The ICR describes the nature of the information collections and their expected burden.

This proposed rule would have new collection of information requirements that would require registrants to provide information to NHTSA and to dealers and consumers pertaining to registration, annual reporting, labeling, and written notification to dealers and owners. This proposed rule would also make changes to existing information collections for manufacturer identification, Vehicle Identification Number (VIN) requirements, and certification labeling. Accordingly, NHTSA is submitting requests to OMB for approval of a new collection of information for Replica Motor Vehicles and revisions to existing collections of information.

a. New Collection of Information for Replica Motor Vehicles

In compliance with these requirements, NHTSA asks for public comments on the following proposed collection of information:

Title: 49 CFR part 586, Replica motor vehicles.

Type of Request: New collection.

OMB Control Number: 2127-New.

Form Number: The collection of this information would not use any standard forms.

Requested Expiration Date of Approval: Three years from the date of approval.

Summary of the Collection of Information: Manufacturers of replica motor vehicles would be required to: Register with NHTSA, provide dealers and first retail purchasers information on the standards with which the vehicle does not comply, and annually report the type and number of replica motor vehicles produced. Manufacturers would also be required to provide NHTSA with images of the front, rear, and side views of the exterior of the original vehicle, and if the manufacturer has previously replicated that original vehicle, images of the front, rear, and side views of the exterior of a representative replica motor vehicle in both the registration and in their annual reports. NHTSA considered but has tentatively decided against a requirement that manufacturers must re-register (renew their registrations) annually. Instead, we propose that registrants simply inform NHTSA in their annual reports of their plans to continue manufacturing the previously-approved replica vehicles under their current registration.

Manufacturers of replica vehicles would also be required to affix temporary labels on the dashboard or steering wheel hub of each exempted vehicle alerting passengers that the vehicle does not comply with all FMVSS and directing them to consult their customer disclosure for more information on the standards from which the vehicle is exempt. However, this requirement is not subject to the Paperwork Reduction Act because NHTSA provides the exact language to provide on the temporary labels.⁴⁸

⁴⁸ The public disclosure of information originally supplied by the Federal Government to the recipient for the purpose of disclosure to the public is not included within [the definition of a collection of information]. 5 CFR 1320.3(c)(2).

Description of the Need for the Information and Use of the Information: NHTSA is required by the Fixing America's Surface Transportation (FAST) Act to exempt a limited number of replica motor vehicles manufactured by low-volume manufacturers from certain Federal standards each year provided the manufacturer registers with NHTSA. NHTSA is issuing a regulation that implements the exemption program. All the proposed reporting and record keeping requirements discussed below are mandated or contemplated by the FAST Act or are essential to carrying out the statute.

First, in accordance with the FAST Act, low-volume manufacturers wishing to qualify for an exemption must register with NHTSA in accordance with this proposed regulation. The FAST Act mandates this registration requirement in 49 U.S.C. 30114(b)(2), specifying that “a low-volume manufacturer shall register with [NHTSA] at such time, in such manner, and under such terms that [NHTSA] determines appropriate.” NHTSA needs this information to keep track of the exempted vehicles, ensure that the vehicles qualify as replica vehicles, and for enforcement purposes.

Second, in accordance with the FAST Act, manufacturers of replica vehicles would be required to submit annual reports. The annual reports are required by 49 U.S.C. 30114(b)(3)(C). The Act specifies that the annual report include the number and description of the motor vehicles exempted and a list of the exemptions described on a permanent label required by 49 U.S.C. 30114(b)(3)(A) (described below). In the annual report, manufacturers that are registered in the program (registrants) would be required to show NHTSA images of the vehicles they produced so that NHTSA can assess if the vehicles resemble the original vehicle. The registrants must also notify NHTSA if they will be manufacturing the same replica motor vehicles in the next calendar year and if so, how many vehicles they will be manufacturing. 49 U.S.C. 30114(b)(5) states that an exemption “shall expire at the end of the calendar year for which it was granted with respect to any volume authorized by the exemption that was not applied by the low-volume manufacturer to vehicles built during that calendar year.” The annual reporting requirement would be essential to NHTSA's enforcement of the program, enabling the agency to better assess whether registrants are complying with the 325-vehicle limit and manufacturing vehicles qualifying as “replica motor vehicles.” The reporting requirements would also enable NHTSA to keep track of registrants and the vehicles they produce, which would help the agency meet a FAST Act requirement to keep an up-to-date list of registrants and publish such list on an annual basis (section 30114(b)(5)). NHTSA considered requiring all registrants to formally renew their registration annually but believes that this reporting process would simplify and reduce paperwork by eliminating the need to re-register with NHTSA if the same replica vehicles would be produced in the next calendar year.

Third, in accordance with the FAST Act, the proposed rule would require the registrants to disclose information to consumers. Because the replica vehicles will be exempt from current FMVSS, it is important that the consumer understand the reduced level of safety provided by the vehicle. In accordance with a mandate in 49 U.S.C. 30114(b)(3)(A), the NPRM, if adopted, would require registrants to affix a permanent label to the vehicle identifying the specified standards and regulations from which the vehicle is exempt, stating that the vehicle is a replica, and designating the model year such vehicle replicates. In accordance with discretion provided to NHTSA in section 30114 (b)(3)(B), the proposed rule would require registrants to provide written notice of the exemption to the dealer and the first purchaser of the vehicle for purposes other than resale.

Description of the Likely Respondents (Including Estimated Number, and Proposed Frequency of Response to the Collection of Information): NHTSA estimates that at most there would be approximately 40 manufacturers in the replica vehicle program at any given time. NHTSA estimates that it will take some time before the total number of replica manufacturer reaches 40. By the end of the first three years of the program, NHTSA estimates that there will be 30 replica vehicle manufacturers. Therefore, in the first three years of the replica program, NHTSA expects to receive approximately 10 submissions from low-volume manufacturers to register as replica manufacturers each year. Based on an assumption that on average 30 manufacturers would each produce 200 vehicles each year, there would be 6,000 replica vehicles produced each year by the end of the third year, or an average of 4,000 replica vehicles a year over the first three years. For purposes of calculating the burden associated with the collections, we use the average of 4,000 replica vehicles a year and 20 replica manufacturers. Combined, manufacturers are expected to label 4,000 replica vehicles with temporary and permanent labels and provide 4,000 written disclosures to consumers. Each manufacturer must submit one report annually, for an average of 20 reports for the next three years.

Estimate of the Total Annual Reporting and Recordkeeping Burden Resulting From the Collection of Information: NHTSA estimates the total burden of this collection to be an average of 400 hours and $24,239 each year. The cost of labor associated with the 400 burden hours is estimated to be $16,239 and the cost of printing the consumer disclosures and temporary labels is estimated to be $8,000.

NHTSA estimates that it will take 10 hours to complete an initial registration submission. NHTSA estimates the labor cost for compiling and submitting the required information to be $48.47 ⁴⁹ per hour, using the Bureau of Labor's mean hourly wage estimate for technical writers in the motor vehicle manufacturing industry (Standard Occupational Classification #27-3042).⁵⁰ Therefore, NHTSA estimates that the labor cost for each registration will be $484.70 (10 hours × $48.47 per hour). NHTSA estimates that, over the first three years, a total of 30 manufacturers will submit registrations to become manufacturers of exempted replica vehicles. NHTSA estimates that, on average, ten manufacturers will submit registrations each year. Therefore, NHTSA estimates the total annual burden on low-volume manufacturers for initial submissions to be 100 hours (10 manufacturers × 10 hours). NHTSA estimates that the total cost associated with labor for the registrations to be $4,847 (10 submissions × $484.70 per submission) per year.

⁴⁹ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

⁵⁰ U.S. Office of Management and Budget. Standard Occupation Classification Manual, 2018.

For the annual reporting requirement, NHTSA estimates it would take a maximum of two hours to collect the necessary information and submit it on the vPIC portal. NHTSA estimates that, on average, 20 manufacturers will submit annual reports each year. Therefore, the burden hours associated with this information collection would, on average, be 40 hours per year (20 manufacturers × 2 hours). NHTSA estimates the hourly cost associated with annual reports to be $48.47 ⁵¹ per hour, using the Bureau of Labor's mean hourly wage estimate for technical writers in the motor vehicle manufacturing industry (Standard Occupational Classification # 27-3042).⁵² Therefore, NHTSA estimates the total labor cost associated with annual reports will be $96.94 per manufacturer and a total of $1,939 for all manufacturers ($96.94 × 20 manufacturers) in each of the first three years. NHTSA does not estimate that there will be any additional costs because these reports would be submitted electronically.

⁵¹ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

⁵² U.S. Office of Management and Budget. Standard Occupation Classification Manual, 2018.

To estimate the burden to produce consumer disclosures, NHTSA looked at estimates for owner's manuals which provide required disclosures to consumers. Owner's manuals are much longer and contain far more information than the replica vehicle consumer disclosures. However, because owner's manuals are produced in higher quantities, NHTSA estimates that it only costs manufacturers, on average, about $.50 for each Owner's Manual.⁵³ To account for the fact that replica manufacturers are smaller and less able to take advantage of economies of scale, NHTSA estimates that printing consumer disclosures will cost $1 per replica vehicle. NHTSA estimates that, in the next three years, 20 manufacturers will each produce 200 replica vehicles. NHTSA estimates the cost for producing the 4,000 consumer disclosures will be $4,000 ($1 per disclosure × 4,000 replica vehicles).

⁵³ The estimate is provided in the supporting statements NHTSA submitted to OMB in 2015 in support of the renewal of NHTSA's Information Collection titled “Consolidated Owner's Manual Requirements for Motor Vehicles and Motor Vehicle Equipment.” NHTSA estimated costs as $8,198,948 for 16,500,000 vehicles, or approximately $.50 per vehicle. The supporting statements can be accessed at https://www.reginfo.gov/public/do/PRAViewDocument?ref_nbr=201504-2127-001.

NHTSA estimates that it will take no more than 1 hour per manufacturer to compile and format the consumer disclosures. Therefore, the total burden hours for twenty manufacturers would be 20 hours (20 manufactures × 1 hour). NHTSA estimates the hourly cost associated with compiling consumer disclosures to be $48.47 ⁵⁴ per hour, using the Bureau of Labor's mean hourly wage estimate for technical writers in the motor vehicle manufacturing industry (Standard Occupational Classification #27-3042).⁵⁵ Therefore, NHTSA estimates the total labor costs associated with compiling and formatting consumer disclosures to be $48.47 per manufacturer and $969 per year for all replica manufacturers (20 manufacturers × $48.47 per hour).

⁵⁴ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

⁵⁵ U.S. Office of Management and Budget. Standard Occupation Classification Manual, 2018.

Replica manufacturers will also be required to affix temporary labels. NHTSA estimates that it will take each manufacturer 2 hours to design and format the temporary labels for a total of 40 hours for all replica vehicle manufacturers. NHTSA estimates the hourly cost associated with designing and formatting temporary labels to be $48.47 ⁵⁶ per hour, using the Bureau of Labor's mean hourly wage estimate for technical writers in the motor vehicle manufacturing industry (Standard Occupational Classification #27-3042).⁵⁷ Therefore, NHTSA estimates the total annual labor cost associated with designing and formatting temporary labels to be $96.94 for each manufacturer and $1,939 for all manufacturers ($96.94 × 20 manufacturers). NHTSA estimates the cost to print or purchase printed labels for each replica vehicle to be $1 per vehicle, for a total cost of $4,000. This cost is higher than what NHTSA estimates for the total cost to provide certification labels.⁵⁸ NHTSA has estimated a higher cost for temporary replica vehicle warning labels because they will be larger than certification labels and replica manufacturers will produce the labels in smaller batches. NHTSA estimates that it will take approximately 3 minutes to label each vehicle. This is longer than the estimated 18 seconds to label an average vehicle with a Part 567 certification label.⁵⁹ However, because replica vehicle manufacturers are expected to be much smaller than the average vehicle manufacturer, NHTSA assumes that replica vehicle manufacturers will not be able to label each vehicle as quickly. Based on the assumption that 4,000 vehicles are manufactured, on average, in each of the next three years, the labor costs associated with affixing the temporary labels to the steering hub, at a cost of $32.72 per hour, using the Bureau of Labor Statistic's mean hourly wage estimate for motor vehicle assemblers and fabricators (Standard Occupational Classification #51-2000), will be approximately $6,545 annually (200 hours × $32.72 per hour).

⁵⁶ The hourly wage is estimated to be $33.98 per hour. National Industry-Specific Occupational Employment and Wage Estimates NAICS 336100—Motor Vehicle Manufacturing, May 2018, https://www.bls.gov/oes/current/naics4_336100.htm#47-0000, last accessed July 1, 2019. The Bureau of Labor Statistics estimates that wages represent 70.1 percent of total compensation to private workers, on average. Bureau of Labor Statistics (2019). Employer Costs for Employee Compensation—March 2019. https://www.bls.gov/news.release/ecec.t04.htm, last accessed July 10, 2019. Therefore, NHTSA estimates the total hourly compensation cost to be $48.47.

⁵⁷ U.S. Office of Management and Budget. Standard Occupation Classification Manual, 2018.

⁵⁸ NHTSA estimates that the cost of 49 CFR part 567 certification labels is approximately $.10 per label.

⁵⁹ 83 FR 8732, February 28, 2018.

The total burden associated with this information collection request is estimated to be 400 hours. The cost associated with the burden hours is estimated to be $16,239 and the cost associated with printing consumer disclosures and temporary labels is estimated to be $8,000. The total cost associated with this information collection is estimated to be $24,239.

Labor Costs
Information collection | Time per response | Number of responses | Hourly wage | Total hourly cost | Total labor cost per response | Total labor cost overall
Initial Registration | 10 hours | 10 | $33.98 | $48.47 | $484.70 | $4,847
Annual Report | 2 hours | 20 | 33.98 | 48.47 | 96.94 | 1,939
Consumer Disclosures | 1 hour | 20 | 33.98 | 48.47 | 48.47 | 969
Designing and Formatting Temporary Labels | 2 hours | 20 | 33.98 | 48.47 | 96.94 | 1,939
Labeling Each Vehicle | 3 minutes | 4,000 | 22.94 | 32.72 | 1.64 | 6,545
Total Cost |  |  |  |  |  | 16,239

Other Costs to Respondents
| Cost per vehicle | Number of vehicles | Printing cost
Printing Temporary Labels | $1 | 4,000 | $4,000
Printing Consumer Disclosures | 1 | 4,000 | 4,000
Total Cost |  |  | 8,00

Comments are invited on:

i. Whether the proposed collection of information is necessary for the proper performance of the functions of the agency, including whether the information will have practical utility;

ii. The accuracy of the agency's estimate of the burden of the proposed collection of information, including the validity of the methodology and assumptions used;

iii. How to enhance the quality, utility, and clarity of the information to be collected;

iv. How to minimize the burden of the collection of information on those who are to respond, including the use of appropriate automated, electronic, mechanical, or other technological collection techniques or other forms of information technology, e.g. permitting electronic submission of responses.

Please submit any comments, identified by the docket number in the heading of this document, by the methods described in the ADDRESSES section of this document to NHTSA and OMB.

b. Revision of Currently Approved Clearance for Manufacturer Identification

In compliance with these requirements, NHTSA asks for public comments on the following proposed collection of information:

Title: 49 CFR part 566, Manufacturer Identification.

Type of Request: Revision of a currently approved collection.

OMB Control Number: 2127-0043.

Affected Public: New manufacturers of motor vehicles and motor vehicle equipment subject to the Federal motor vehicle safety standards.

Requested Expiration Date of Approval: Three years from the date of approval.

Form Number: None.

Summary of the Collection of Information: If a motor vehicle or item of replacement motor vehicle equipment contains a defect related to motor vehicle safety or fails to comply with an applicable Federal motor vehicle safety standard (FMVSS), the manufacturer is required under 49 U.S.C. 30118 to furnish notification of the defect or noncompliance to NHTSA, as well as to owners, purchasers, and dealers of the motor vehicle or replacement equipment, and to remedy the defect or noncompliance without charge to the owner. To ensure that manufacturers are meeting these and other responsibilities under the statutes and regulations administered by NHTSA, the agency issued 49 CFR part 566, Manufacturer Identification. The regulations in Part 566 require manufacturers of motor vehicles or motor vehicle equipment to which an FMVSS applies, to submit to NHTSA, on a one-time basis, identifying information on themselves and a description of the products that they manufacture to those standards. With changes implemented in 2015, manufacturers have been able to make these submissions using an online portal on the agency's website at https://vpic.nhtsa.dot.gov/.

The information that must be submitted includes: (a) The full individual, partnership, or corporate name of the manufacturer; (b) the business name of the manufacturer commonly known to the public; (c) the residence address of the manufacturer and State of incorporation if applicable; (d) full contact information for the manufacturer and the submitting official; and (e) a description of each type of motor vehicle or of covered equipment manufactured by the manufacturer, including, for motor vehicles, the approximate ranges of gross vehicle weight ratings (GVWR) for each vehicle type. The regulations specify that the description may be of a general type, such as “passenger cars” or “brake fluid,” but that in the case of multipurpose passenger vehicles, trucks, and trailers, the description shall be specific enough to indicate the types of use for which the vehicles are intended, such as “tank trailer,” “motor home,” or “cargo van.” ⁶⁰

⁶⁰ 49 CFR 566.5(c)(1) and (2).

The regulations further specify that in the case of motor vehicles produced in two or more stages, if the manufacturer is an incomplete vehicle manufacturer, the description shall so state and include a description indicating the stage of completion of the vehicle and, where known, the types of use for which the vehicles are intended, such as “Incomplete vehicle manufacturer—Chassis-cab intended for completion as a van-type truck.” ⁶¹ The regulations also specify that if the manufacturer is an intermediate manufacturer, or a final stage manufacturer of a vehicle manufactured in two or more stages, the description shall so state and include a brief description of the work performed, such as “Multipurpose passenger vehicles: Motor homes with GVWR from 8,000 to 12,000 pounds. Final-stage manufacturer—add body to bare chassis.” ⁶²

⁶¹ 49 CFR 566.5(c)(3).

⁶² Id.

The information must be submitted no later than 30 days after the manufacturer begins to manufacture motor vehicles or motor vehicle equipment subject to the FMVSS. No specific form need be used for the submission of this information. NHTSA provides an online portal with a fillable web-based format for use in submitting the required information. This is described in a handbook entitled Requirements for Manufacturers of Motor Vehicles and Motor Vehicle Equipment that can be accessed on the agency's website at https://vpic.nhtsa.dot.gov/.

Manufacturers who have previously submitted identifying information must ensure that the information on file is accurate and complete by submitting revised information no later than 30 days after a change in the business that affects the validity of that information has occurred.

In 2016, NHTSA received submissions of manufacturer identifying information under 49 CFR part 566 from 821 manufacturers. In 2016, the agency received 882 such submissions. Based on this volume and the estimating that the agency will receive 10 replica motor vehicle manufacturer submissions in each of the next three years, the agency projects that it will receive approximately 892 Part 566 submissions from manufacturers in each of the next three years. Assuming that it will take a manufacturer on average 15 minutes to prepare an online submittal, the agency estimates that 223 hours will be expended on an annual basis by all manufacturers required to submit Part 566 identifying information.

Description of the Likely Respondents (Including Estimated Number and Proposed Frequency of Responses to the Collection of Information): The agency estimates that it will receive 892 submissions of manufacturer identifying information under Part 566 from manufacturers of motor vehicles and regulated items of motor vehicle equipment per year. The manufacturers need only submit the required information on a one-time basis, with the proviso that they refile their information through the online portal in the event of any changes in the information on file within 30 days from the date that any change in that information occurs.

Estimate of the Total Annual Reporting and Recordkeeping Burden of the Collection of Information: 223 hours.

Estimate of the Total Annual Costs of the Collection of Information: Assuming that the Part 566 information that needs to be submitted through the online portal is entered by company officers or employees compensated at an average rate of $33.98 ⁶³ per hour using the Bureau of Labor's mean hourly wage estimate for technical writers in the motor vehicle manufacturing industry (Standard Occupational Classification # 27-3042),⁶⁴ the agency estimates that the total hourly wage cost associated with the burden hours is $7,577.54. The Bureau of Labor Statistics estimates that for private industry workers, wages represent 70.1% of total compensation.⁶⁵ Therefore, NHTSA estimates that a total of $10,809.61 will be expended on an annual basis for wage by all manufacturers required to submit that information.

⁶³ National Industry-Specific Occupational Employment and Wage Estimates NAICS 336100—Motor Vehicle Manufacturing, May 2018, https://www.bls.gov/oes/current/naics4_336100.htm#47-0000, last accessed July 1, 2019.

⁶⁴ U.S. Office of Management and Budget. Standard Occupation Classification Manual, 2018.

⁶⁵ Employer Costs for Employee Compensation-March 2019, https://www.bls.gov/news.release/pdf/ecec.pdf, last accessed June 28, 2019.

Comments are invited on:

i. Whether the proposed collection of information is necessary for the proper performance of the functions of the agency, including whether the information will have practical utility;

ii. The accuracy of the agency's estimate of the burden of the proposed collection of information, including the validity of the methodology and assumptions used;

iii. How to enhance the quality, utility, and clarity of the information to be collected;

iv. How to minimize the burden of the collection of information on those who are to respond, including the use of appropriate automated, electronic, mechanical, or other technological collection techniques or other forms of information technology, e.g. permitting electronic submission of responses.

Please submit any comments, identified by the docket number in the heading of this document, by the methods described in the ADDRESSES section of this document to NHTSA and OMB.

c. Revision of Currently Approved Clearance for Vehicle Identification Number (VIN) Requirements and Certification Labeling

In compliance with these requirements, NHTSA asks for public comments on the following proposed collection of information:

Title: Consolidated Labeling Requirements for 49 CFR parts 565 Vehicle Identification Number (VIN) Requirements, and 567 Certification.

Type of Request: Revision of a previously approved collection.

OMB Control Number: 2127-0510.

Affected Public: Motor vehicle manufacturers.

Form Number: None.

Summary of the Collection of Information:

Part 565

The regulations in Part 565 specify the format, contents, and physical requirements for a vehicle identification number (VIN) system and its installation to simplify vehicle identification information retrieval and to increase the accuracy and efficiency of vehicle recall campaigns. The regulations require each vehicle manufactured in one stage to have a VIN that is assigned by the vehicle's manufacturer. Each vehicle manufactured in more than one stage is to have a VIN assigned by the incomplete vehicle manufacturer. Each VIN must consist of 17 characters, including a check digit, in the ninth position, whose purpose is to verify the accuracy of any VIN transcription. The first section of the VIN consists of three characters that occupy positions one through three in the VIN. This section shall uniquely identify the manufacturer and type of the motor vehicle if the manufacturer is a high-volume manufacturer. If the manufacturer is a low-volume manufacturer, positions one through three along with positions twelve through fourteen in the VIN shall uniquely identify the manufacturer and the type of the motor vehicle. The manufacturer identifier occupies the first three characters of the VIN for manufacturers that produce 1,000 or more vehicles of a specified type within a model year, and positions 1, 2, 3, 12, 13, and 14 of VINs assigned by manufacturers that produce less than 1,000 vehicles of a specified type of motor vehicle per model year. The remaining characters of the VIN describe various vehicle attributes, such as make, model, and type, which vary depending on the vehicle's type classification (i.e. passenger car, multipurpose passenger vehicle, truck, bus, trailer, motorcycle, low-speed vehicle), and identify the vehicle's model year, plant code, and sequential production number. NHTSA has contracted with SAE International of Warrendale, Pennsylvania, to coordinate the assignment of manufacturer identifiers to manufacturers in the United States. Each manufacturer of vehicles subject to the requirements of Part 565 must submit, either directly or through an agent, the unique identifier for each make and type of vehicle it manufactures at least 60 days before affixing the first VIN using the identifier. Manufacturers are also required to submit to NHTSA information necessary to decipher the characters contained in their VINs, including amendments to that information, at least 60 days prior to offering for sale the first vehicle identified by a VIN containing that information or if information concerning vehicle characteristics sufficient to specify the VIN code is unavailable to the manufacturer by that date, then within one week after that information first becomes available. With changes implemented in 2015, manufacturers have been able to make these submissions using an online portal on the agency's website at https://vpic.nhtsa.dot.gov/. In 2016, NHTSA received 1,054 submissions of VIN-deciphering information under Part 565 from manufacturers. In 2017, NHTSA received 1,239 submissions. NHTSA estimates it will receive, on average, 15 submissions of VIN-deciphering information from replica manufacturers in the next three years. Based on these figures, NHTSA expects to receive approximately 1,254 Part 565 submissions from manufacturers in each of the next three years. Assuming that it would take one hour to produce a VIN deciphering submission, at an average cost of $33.98 per hour for the administrative and professional staff preparing and reviewing the submission,⁶⁶ NHTSA estimates that it will cost vehicle manufacturers $42,610.92 to comply with the Part 565 requirements (1,254 submissions × $33.98 = $42,610.92).

⁶⁶ This estimate uses the Bureau of Labor's mean hourly wage estimate for technical writers in the motor vehicle manufacturing industry (Standard Occupational Classification # 27-3042). National Industry-Specific Occupational Employment and Wage Estimates NAICS 336100—Motor Vehicle Manufacturing, May 2018, https://www.bls.gov/oes/current/naics4_336100.htm#47-0000, last accessed July 1, 2019.

Part 567

The regulations in Part 567 specify the content and location of, and other requirements for, the certification label to be affixed to a motor vehicle, as required by the National Traffic and Motor Vehicle Safety Act,⁶⁷ as amended (the Vehicle Safety Act) and the Motor Vehicle Information and Cost Savings Act,⁶⁸ as amended (the Cost Savings Act), to address certification-related duties and liabilities, and to provide the consumer with information to assist him or her in determining which of the Federal motor vehicle safety standards (as found in 49 CFR part 571), bumper standards (as found in 49 CFR part 581, and Federal theft prevention standards (as found in 49 CFR part 541) are applicable to the vehicle. The regulations pertain to manufacturers of motor vehicles to which one or more standards are applicable, including persons who alter such vehicles prior to their first retail sale, and to Registered Importers of vehicles not originally manufactured to comply with all applicable Federal motor vehicle safety standards that are determined eligible for importation by NHTSA, based on the vehicles' capability of being modified to conform to those standards. The regulations require each manufacturer to affix to each vehicle, in a prescribed location, a label that, among other things, identifies the vehicle's manufacturer (defined as the person who assembles the vehicle), the vehicle's date of manufacture, and the statement that the vehicle complies with all applicable Federal motor vehicle safety standards and, where applicable, bumper and theft prevention standards in effect on the date of manufacture. The label must also include the vehicle's gross vehicle and gross axle weight ratings (GVWR and GAWRs), vehicle identification number, and vehicle type classification (i.e., passenger car, multipurpose passenger vehicle, truck, bus, trailer, motorcycle, low-speed vehicle). The regulations specify other labelling requirements for incomplete vehicle, intermediate, and final-stage manufacturers of vehicles built in two or more stages, such as commercial trucks that are built by adding work performing components, such as a cargo box or cement mixer, to a previously manufactured chassis or chassis-cab, and to persons who alter previously certified vehicles, other than by the addition, substitution, or removal of readily attachable components such as mirrors or tire and rim assemblies, or minor finishing operations such as painting, before the first purchase of the vehicle for purposes other than resale.

⁶⁷ 49 U.S.C. 30115.

⁶⁸ 49 U.S.C. 30254 and 33109.

As NHTSA estimates that fewer than 8,00 replica vehicles will be manufactured in each year, the implementation of the replica provision is not expected to change the estimate that 17,600,000 vehicles will be labeled according to Part 567 in each of the next three years.

Description of the Likely Respondents (Including Estimated Number and Proposed Frequency of Responses to the Collection of Information): The agency estimates that it will receive 1,254 submissions of VIN-deciphering information under Part 565 from approximately 629 manufacturers of motor vehicles per year. The manufacturers need only submit the required information on a one-time basis, with the proviso that they notify the agency of any changes in the information on file within 30 days from the date that any change in that information occurs. In addition, the agency estimates that approximately 7,600 manufacturers of motor vehicles of all types, including manufacturers of passenger cars, multipurpose passenger vehicles, trucks, buses, trailers, motorcycles, low-speed vehicles, and replica motor vehicles as well as incomplete vehicle manufacturers, intermediate and final-stage manufacturers of vehicles built in two or more stages, and vehicle alterers, will need to comply with the certification labeling requirements of Part 567 in each of the next three years.

Estimate of the Total Annual Reporting and Recordkeeping Burden of the Collection of Information: 1,254 hours for supplying required VIN-deciphering information to NHTSA under Part 565; 88,000 hours for meeting the labeling requirements of Part 567.

Estimate of the Total Annual Costs of the Collection of Information: Assuming that the Part 565 information is submitted to the agency's website by company officers or employees compensated at an average rate of $33.98 ⁶⁹ per hour using the Bureau of Labor's mean hourly wage estimate for technical writers in the motor vehicle manufacturing industry (Standard Occupational Classification #27-3042),⁷⁰ the agency estimates that $42,610.92 will be expended on an annual basis by all manufacturers required to submit that information (1,254 hours × $33.98 = $42,610.92). Additionally, NHTSA assumes that it will take an average of .005 hours to affix a certification label to each of the approximately 17,600,000 vehicles produced each year for sale in the United States, at an average cost of $22.94,⁷¹ using the Bureau of Labor Statistic's mean hourly wage estimate for motor vehicle assemblers and fabricators (Standard Occupational Classification #51-2000).⁷² Therefore, the agency estimates that roughly $2,018.720 will be expended by all manufacturers to comply with the labeling requirements of Part 567 (17,600,000 vehicles × .005 hours = 88,000 hours; 88,000 hours × $20.00 = $2,018.720).

⁶⁹ National Industry-Specific Occupational Employment and Wage Estimates NAICS 336100—Motor Vehicle Manufacturing, May 2018, https://www.bls.gov/oes/current/naics4_336100.htm#47-0000, last accessed July 1, 2019.

⁷⁰ U.S. Office of Management and Budget. Standard Occupation Classification Manual, 2018.

⁷¹ Occupational Employment and Wages, May 2018, https://www.bls.gov/oes/current/oes434031.htm, last accessed July 1, 2019.

⁷² U.S. Office of Management and Budget. Standard Occupation Classification Manual, 2018.

The total hourly wage cost associated with this information collection is $2,061,330.92. The Bureau of Labor Statistics estimates that for private industry workers, wages represent 70.1% of total compensation.⁷³ Therefore, the total cost associated with the hourly burden of this information collection is estimated to be $2,940,557.66.

⁷³ Employer Costs for Employee Compensation-March 2019, https://www.bls.gov/news.release/pdf/ecec.pdf, last accessed June 28, 2019.

Comments are invited on:

i. Whether the proposed collection of information is necessary for the proper performance of the functions of the agency, including whether the information will have practical utility;

ii. The accuracy of the agency's estimate of the burden of the proposed collection of information, including the validity of the methodology and assumptions used;

iii. How to enhance the quality, utility, and clarity of the information to be collected;

iv. How to minimize the burden of the collection of information on those who are to respond, including the use of appropriate automated, electronic, mechanical, or other technological collection techniques or other forms of information technology, e.g. permitting electronic submission of responses.

Please submit any comments, identified by the docket number in the heading of this document, by the methods described in the ADDRESSES section of this document to NHTSA and OMB.

Plain Language

E.O. 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an organization, business, labor union, etc.). You may review DOT's complete Privacy Act statement in the Federal Register published on April 11, 2000 (Volume 65, Number 70; Pages 19477-78) or you may visit http://www.dot.gov/privacy.html.

XIV. Public Participation

How long do I have to submit comments?

We are providing a 30-day comment period. The comment period is shorter than the customary 45-day comment period used by the agency for nonsignificant rulemakings. A shorter comment period is in the public interest because it will allow us to issue a final rule more quickly and allow qualifying low-volume manufacturers to begin manufacturing replica motor vehicles sooner. We do not believe a longer comment period is necessary for the public to consider this proposal because most of the proposed requirements are mandated or contemplated by the FAST Act.

How do I prepare and submit comments?

• Your comments must be written in English.

• To ensure that your comments are correctly filed in the Docket, please include the Docket Number shown at the beginning of this document in your comments.

• Your comments must not be more than 15 pages long. (49 CFR 553.21). We established this limit to encourage you to write your primary comments in a concise fashion. However, you may attach necessary additional documents to your comments. There is no limit on the length of the attachments.

• If you are submitting comments electronically as a PDF (Adobe) File, NHTSA asks that the documents be submitted using the Optical Character Recognition (OCR) process, thus allowing NHTSA to search and copy certain portions of your submissions. Comments may be submitted to the docket electronically by logging onto the Docket Management System website at http://www.regulations.gov. Follow the online instructions for submitting comments.

• You may also submit two copies of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.bts.gov/programs/statistical_policy_and_research/data_quality_guidelines.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512).

Will the agency consider late comments?

We will consider all comments that Docket Management receives before the close of business on the comment closing date indicated above under DATES. To the extent possible, we will also consider comments that Docket Management receives after that date. If Docket Management receives a comment too late for us to consider in developing a final rule, we will consider that comment as an informal suggestion for future rulemaking action.

How can I read the comments submitted by other people?

You may read the comments received by Docket Management at the address given above under ADDRESSES. The hours of the Docket are indicated above in the same location. You may also see the comments on the internet. To read the comments on the internet, go to http://www.regulations.gov. Follow the online instructions for accessing the dockets.

Please note that, even after the comment closing date, we will continue to file relevant information in the Docket as it becomes available. Further, some people may submit late comments. Accordingly, we recommend that you periodically check the Docket for new material.

List of Subjects

49 CFR Part 565

Incorporation by reference, Motor vehicle safety, Reporting and recordkeeping requirements.

49 CFR Part 566

Motor vehicle safety, Reporting and recordkeeping requirements.

49 CFR Part 567

Labeling, Motor vehicle safety, Reporting and recordkeeping requirements.

49 CFR Part 586

Labeling, Motor vehicle safety, Replica motor vehicles, Reporting and recordkeeping requirements.

In consideration of the foregoing, NHTSA proposes to amend 49 CFR chapter V as follows:

PART 565—VEHICLE IDENTIFICATION NUMBER (VIN) REQUIREMENTS

1. The authority citation for part 565 is revised to read as follows:

Authority: 49 U.S.C. 322, 30111, 30114, 30115, 30117, 30141, 30146, 30166, and 30168; delegation of authority at 49 CFR 1.95.

2. Revise § 565.12 to read as follows:

§ 565.12 Definitions.

(a) Federal Motor Vehicle Safety Standards Definitions. Unless otherwise indicated, all terms used in this part that are defined in 49 CFR 571.3 are used as defined in 49 CFR 571.3.

(b) Other definitions. As used in this part—

Body type means the general configuration or shape of a vehicle distinguished by such characteristics as the number of doors or windows, cargo-carrying features and the roofline (e.g., sedan, fastback, hatchback).

Check digit means a single number or the letter X used to verify the accuracy of the transcription of the vehicle identification number.

Engine type means a power source with defined characteristics such as fuel utilized, number of cylinders, displacement, and net brake horsepower. The specific manufacturer and make shall be represented if the engine powers a passenger car or a multipurpose passenger vehicle, or truck with a gross vehicle weight rating of 4,536 kg (10,000 lb) or less.

High-volume manufacturer, for purposes of this part, means a manufacturer of 1,000 or more vehicles of a given type each year.

Incomplete vehicle means an assemblage consisting, as a minimum, of frame and chassis structure, power train, steering system, suspension system and braking system, to the extent that those systems are to be part of the completed vehicle, that requires further manufacturing operations, other than the addition of readily attachable components, such as mirrors or tire and rim assemblies, or minor finishing operations such as painting, to become a completed vehicle.

Line means a name that a manufacturer applies to a family of vehicles within a make which have a degree of commonality in construction, such as body, chassis or cab type.

Low-volume manufacturer, for purposes of this part, means a manufacturer of fewer than 1,000 vehicles of a given type each year.

Make means a name that a manufacturer applies to a group of vehicles or engines.

Manufacturer means a person—

(1) Manufacturing or assembling motor vehicles or motor vehicle equipment; or

(2) Importing motor vehicles or motor vehicle equipment for resale.

Manufacturer identifier means the first three digits of a VIN of a vehicle manufactured by a high-volume manufacturer, and the first three digits of a VIN and the twelfth through fourteenth digits of a VIN of a vehicle manufactured by a low-volume manufacturer.

Model means a name that a manufacturer applies to a family of vehicles of the same type, make, line, series and body type.

Model year means the year used to designate a discrete vehicle model, irrespective of the calendar year in which the vehicle was actually produced, provided that the production period does not exceed 24 months.

Original model year of a replicated vehicle means the stated model year of a vehicle that has been replicated pursuant to 49 CFR part 586.

Plant of manufacture means the plant where the manufacturer affixes the VIN. Replica motor vehicle means a motor vehicle meeting the definition of replica motor vehicle in 49 CFR part 586.

Replica model year means the calendar year in which a replica motor vehicle was manufactured.

Series means a name that a manufacturer applies to a subdivision of a “line” denoting price, size or weight identification and that is used by the manufacturer for marketing purposes.

Trailer kit means a trailer that is fabricated and delivered in complete but unassembled form and that is designed to be assembled without special machinery or tools.

Type means a class of vehicle distinguished by common traits, including design and purpose. Passenger cars, multipurpose passenger vehicles, trucks, buses, trailers, incomplete vehicles, low speed vehicles, and motorcycles are separate types.

VIN means a series of Arabic numbers and Roman letters that is assigned to a motor vehicle for identification purposes.

3. In § 565.15(b), amend Table I—Type of Vehicle and Information Decipherable by adding an entry for “Replica motor vehicle” after the entry for “Low speed vehicle” to read as follows:

565.15 [Amended]

(b) * * *

Table I—Type of Vehicle and Information Decipherable
* * * * *
Replica motor vehicle: The make, model, and model year of the original replicated vehicle; and the information listed in this table for the vehicle' type classification (e.g., if the replica meets the definition for passenger car in 49 CFR 571.3, the following information is required: body type; engine type; and all restraint devices and their locations).
* * * * *

* * * * *

PART 566—MANUFACTURER IDENTIFICATION

4. The authority citation for part 566 is revised to read as follows:

Authority: National Traffic and Motor Vehicle Safety Act (49 U.S.C. 30166) and Sec. 24405(a) of the Fixing America's Surface Transportation Act (49 U.S.C. 30114(b)); delegation of authority at 49 CFR 1.95.

5. Amend § 566.5 by revising the introductory text and adding paragraph (c)(4) to read as follows:

§ 566.5 Requirements.

Each manufacturer of motor vehicles, and each manufacturer of covered equipment, shall furnish the information specified in paragraphs (a) through (c) of this section to: Administrator, National Highway Traffic Safety Administration, 1200 New Jersey Avenue SE, West Building, Washington, DC 20590 or at https://vpic.nhtsa.dot.gov/.

* * * * *

(c) * * *

(4) In the case of replica motor vehicles, the manufacturer shall include, in the description of each type of motor vehicle it manufactures, a designation that the vehicle is a replica motor vehicle.

PART 567—CERTIFICATION

6. The authority citation for part 567 is revised to read as follows:

Authority: 49 U.S.C. 322, 30111, 30114, 30115, 30117, 30166, 32504, 33101-33104, 33108 and 33109; delegation of authority at 49 CFR 1.95.

7. Revise § 567.1 to read as follows:

§ 567.1 Purpose.

The purpose of this part is to specify the content and location of, and other requirements for, the certification label to be affixed to motor vehicles as required by the National Traffic and Motor Vehicle Safety Act, as amended (the Vehicle Safety Act) (49 U.S.C. 30114 and 30115) and the Motor Vehicle Information and Cost Savings Act, as amended (the Cost Savings Act), (49 U.S.C. 30254 and 33109), to address certification-related duties and liabilities, and to provide the consumer with information to assist him or her in determining which of the Federal Motor Vehicle Safety Standards (part 571 of this chapter), Bumper Standards (part 581 of this chapter), and Federal Theft Prevention Standards (part 541 of this chapter), are applicable to the vehicle.

8. Amend § 567.3 by adding in alphabetical order a definition for “Replica motor vehicle” to read as follows:

§ 567.3 Definitions.

* * * * *

Replica motor vehicle means a motor vehicle meeting the definition of replica motor vehicle in 49 CFR part 586.

9. Revise § 567.4(a) to read as follows:

§ 567.4 Requirements for manufacturers of motor vehicles.

(a) Each manufacturer of motor vehicles (except replica motor vehicles or vehicles manufactured in two or more stages) shall affix to each vehicle a label, of the type and in the manner described in this section, containing the statements specified in paragraph (g) of this section.

* * * * *

10. Add § 567.8 to read as follows:

§ 567.8 Requirements for manufacturers of replica motor vehicles.

(a) Each manufacturer of replica motor vehicles shall affix to each vehicle a label, of the type and in the manner described in this section, containing the statements specified in paragraph (e) of this section.

(b) The label shall be riveted or permanently affixed in such a manner that it cannot be removed without destroying or defacing it.

(c) The label shall be affixed to either the hinge pillar, door-latch post, or the door edge that meets the door-latch post, next to the driver's seating position, or if none of these locations is practicable, to the left side of the instrument panel. If that location is also not practicable, the label shall be affixed to the inward-facing surface of the door next to the driver's seating position. If none of the preceding locations is practicable, notification of that fact, together with drawings or photographs showing a suggested alternate location in the same general area, shall be submitted for approval to the Administrator, National Highway Traffic Safety Administration, 1200 New Jersey Avenue SE, West Building, Washington, DC 20590. The location of the label shall be such that it is easily readable without moving any part of the vehicle except an outer door.

(d) The lettering on the label shall be of a color that contrasts with the background of the label.

(e) The label shall contain the following information and statements, in the English language, lettered in block capitals and numerals not less than three thirty-seconds of an inch high, in the order shown:

(1) Name of manufacturer: The full corporate or individual name of the actual assembler of the vehicle shall be spelled out, except that such abbreviations as “Co.” or “Inc.” and their foreign equivalents, and the first and middle initials of individuals, may be used. The name of the manufacturer shall be preceded by the words “Manufactured By” or “Mfd By.”

(2) Month and year of manufacture: This shall be the time during which work was completed at the place of main assembly of the vehicle. It may be spelled out, as “June 2000,” or expressed in numerals, as “6/00.”

(3) “Gross Vehicle Weight Rating” or “GVWR” followed by the appropriate value in pounds, which shall not be less than the sum of the unloaded vehicle weight, rated cargo load, and 150 pounds times the number of the vehicle's designated seating positions.

(4) “Gross Axle Weight Rating” or “GAWR,” followed by the appropriate value in pounds, for each axle, identified in order from front to rear (e.g., front, first intermediate, second intermediate, rear). The ratings for any consecutive axles having identical gross axle weight ratings when equipped with tires having the same tire size designation may, at the option of the manufacturer, be stated as a single value, with the label indicating to which axles the ratings apply.

Examples of combined ratings: GAWR:

(a) All axles—2,400 kg (5,290 lb.) with LT245/75R16(E) tires.

(b) Front—5,215 kg (11,500 lb.) with 295/75R22.5(G) tires.

First intermediate to rear—9,070 kg (20,000 lb.) with 295/75R22.5(G) tires.

(5) The following statement: “This vehicle is a replica motor vehicle that replicates a [insert make and model of the replicated motor vehicle] originally manufactured in model year [insert year].”

(6) The following statement: “This replica motor vehicle is exempt from the following Federal motor vehicle safety, theft prevention, and bumper standards in effect on [insert the date of manufacture of the replica motor vehicle] for [insert replica's type of motor vehicle (e.g., passenger cars)].” The expression “U.S.” or “U.S.A.” may be inserted before the word “Federal.” List all standards that the vehicle has been granted an exemption from under part 586.

(7) Vehicle identification number.

11. Add part 586 to read as follows:

PART 586—REPLICA MOTOR VEHICLES

Sec.
586.1 Scope.
586.2 Purpose.
586.3 Applicability.
586.4 Definitions.
586.5 General requirements.
586.6 Registration.
586.7 Timing for processing registrations.
586.8 Deemed approved registrations.
586.9 Updating existing registrations.
586.10 Written notice.
586.11 Temporary label.
586.12 Annual report.
586.14 Revocation of registrations.

Authority: 49 U.S.C. 30112 and 30114; delegation of authority at 49 CFR 1.95.

§ 586.1 Scope

This part specifies requirements and procedures under 49 U.S.C. 30114(b) for the registration of low-volume manufacturers as replica motor vehicle manufacturers and establishes the duties of the manufacturers. Once approved, replica motor vehicle manufacturers are granted a conditional exemption from 49 U.S.C. 30112(a), 32304, 32502, and 32902 and from section 3 of the Automobile Information Disclosure Act (15 U.S.C. 1232) to produce up to 325 replica motor vehicles. That is replica motor vehicles granted an exemption under this part are exempt from all applicable Federal motor vehicle safety standards in part 571 of this chapter (except for standards applicable to motor vehicle equipment), passenger motor vehicle country of origin labeling requirements, bumper standards, average fuel economy standards, and vehicle labeling and safety rating disclosure requirements.

§ 586.2 Purpose.

The purpose of this part is to implement a program under 49 U.S.C. 30114(b) to annually exempt not more than 325 replica motor vehicles per year that are manufactured or imported by low-volume manufacturers from existing requirements for motor vehicles. This part specifies eligibility requirements for low-volume manufacturers that wish to register with NHTSA as a replica motor vehicle manufacturer, procedures for the registration of such manufacturers, content and format requirements for registration submissions, and requirements for updating registrations. This part also provides for the revocation of registrations and sets forth the duties required of replica vehicle manufacturers. Manufacturers are not exempted under 49 U.S.C. 30114(b) unless they register with NHTSA pursuant to this part 586.

§ 586.3 Applicability.

This part applies to low-volume manufacturers that wish to register with NHTSA as a replica motor vehicle manufacturer, and to manufacturers registered as replica motor vehicle manufacturers.

§ 586.4 Definitions.

All terms in this part that are defined in 49 U.S.C. 30102 and in 49 CFR 571.3 are used as defined therein.

Low-volume manufacturer is defined in 49 U.S.C. 30114(b)(7).

Original model year of a replicated vehicle means the stated model year of a vehicle that has been replicated pursuant to 49 CFR part 586.

Replica motor vehicle manufacturer means a low-volume manufacturer that is registered as a replica motor vehicle manufacturer pursuant to the requirements in this part.

Replica model year means the calendar year in which a replica motor vehicle was manufactured.

Replica motor vehicle means a motor vehicle that—

(1) Is produced by a manufacturer meeting the definition of replica motor vehicle manufacturer under 49 CFR part 586 that has not manufactured 325 replica motor vehicles in the current calendar year; and

(2) Is intended to resemble the body of another motor vehicle that was manufactured for consumer sale not less than 25 years before the manufacture of the replica motor vehicle; and

(3) Is either:

(i) Manufactured under a license for all of the intellectual property rights of the motor vehicle that is intended to be replicated, including, but not limited to, product configuration, trade dress, trademark, and patent, from the original manufacturer, or its successors or assignees; or,

(ii) Manufactured by a current owner of such intellectual property, including, but not limited to, product configuration trade dress, trademark, and patent rights.

§ 586.5 General requirements.

(a) Each manufacturer wishing to register as a replica motor vehicle manufacturer must have a calendar year, worldwide production, including by a parent or subsidiary of the manufacturer, if applicable, of not more than 5,000 motor vehicles, and must not be a registered importer under 49 CFR part 592. Only one registration is permitted for manufacturers sharing common ownership. If a manufacturer wishes to manufacture replica vehicles and it shares common ownership with a registered replica motor vehicle, it may only do so after the registered replica manufacturer submits a revised registration submission indicating that the exemption for 325 replica vehicles will be divided between the manufacturers. Replica manufacturers sharing common ownership will be limited to a total of 325 replica vehicles. An update to a registration to add a manufacturer under common ownership shall allocate the exemption for 325 replica vehicles between the manufacturers. An update to the registration to adjust the allocation must be made pursuant to § 586.9.

(b) Each manufacturer wishing to manufacture replica motor vehicles under this program must be registered, according to the requirements in 49 CFR 586.6, as a replica motor vehicle manufacturer for the calendar year in which the replica motor vehicle is manufactured.

(c) Each replica motor vehicle manufacturer shall meet all statutory and regulatory requirements applicable to motor vehicle manufacturers, except:

(1) 49 U.S.C. 30112(a) regarding the Federal motor vehicle safety standards applicable to vehicles in effect on the date of manufacture of the replica motor vehicle; and

(2) 49 U.S.C. 32304, 32502, 32902 and 15 U.S.C. 1232.

(d) Each replica motor vehicle manufacturer shall:

(1) Meet all the requirements set forth in this part; and,

(2) Not manufacture more than 325 replica motor vehicles in a calendar year.

(e) Each replica motor vehicle, as manufactured, shall closely resemble the original replicated vehicle.

(f) An exemption granted by NHTSA may not be transferred to any other person, and shall expire at the end of the calendar year for which it was granted with respect to any volume authorized by the exemption that was not applied by the replica motor vehicle manufacturer to vehicles built during that calendar year.

§ 586.6 Registration.

(a) A manufacturer may register under this part as a manufacturer of replica motor vehicles if:

(1) The manufacturer is not registered as an importer under 49 CFR part 592;

(2) The manufacturer's annual worldwide production, including by a parent or subsidiary of the manufacturer, if applicable, is not more than 5,000 motor vehicles;

(3) The manufacturer has submitted manufacturer identification information pursuant to part 566 of this chapter.

(b) To register as a replica motor vehicle manufacturer, a manufacturer must submit, using the NHTSA Product Information Catalog and Vehicle Listing (vPIC) platform (https://vpic.nhtsa.dot.gov/) its name, address, and email address, and the following:

(1) Information sufficient to establish:

(i) That the manufacturer's annual world-wide production, including by a parent or subsidiary of the manufacturer, if applicable, is not more than 5,000 motor vehicles, and a statement certifying to that effect, including the total number of motor vehicles produced by or on behalf of the registrant in the 12-month prior to filing the registration; and,

(ii) That the manufacturer is not registered as an importer under 49 CFR part 592;

(2) A statement identifying the original vehicle(s) the manufacturer intends to replicate by make, model, and model year;

(3) Information sufficient to establish that the replica vehicle(s) the manufacturer intends to replicate is intended to resemble the body of the original vehicle, including:

(i) The images of the front, rear, and side views of the exterior of the original vehicle;

(ii) If the manufacturer has previously replicated the original vehicle(s), images of the front, rear, and side views of the exterior of a representative replica motor vehicle;

(iii) If the manufacturer has not previously replicated the original vehicle(s), design plans for the replica vehicles;

(iv) Information to show that the replica vehicle will be the same height, width, and length as the original vehicle; and

(v) If any deviations were made to accommodate safety features, highlight those deviations for NHTSA's consideration.

(4) A certification that the manufacturer has determined the intellectual property rights required and obtained all licenses and permissions necessary to legally produce the replica and documentation to support that it has obtained the required licenses from the original manufacturer, its successors or assignees, or the current owner of any product configuration, trade dress, trademark, or patent necessary to produce the replicated vehicle. The intellectual property rights for the original vehicle may include, but are not limited to, the following:

(i) Trade dress of the vehicle;

(ii) Trademarks for the body style of the vehicle;

(iii) Patents for the vehicle's exterior shape or features; and/or

(iv) Trademarks for make and/or model names used in connection with the manufacturer and sale of the original vehicle.

(5) A statement certifying that the manufacturer will not manufacture more than the number of replica motor vehicles covered by the requested exemption, a number not more than 325 replica motor vehicles in a calendar year; and,

(6) All information required by part 566 of this chapter to identify itself to NHTSA as a motor vehicle manufacturer.

(7) A statement certifying that the manufacturer understands that information provided under this part is information upon which the Federal Government will rely, and that submission of false, fictitious or fraudulent information may result in civil or criminal penalties under 18 U.S.C. 1001.

(c) A manufacturer is not considered registered under this part 586 until it receives written confirmation from NHTSA that:

(1) The registration is approved; or,

(2) The registration is deemed approved by NHTSA's failure to approve or deny the registration pursuant to § 586.7.

(d) A replica manufacture shall submit an updated registration submission prior to beginning manufacture of any replica vehicle model(s) not covered by their existing registration and will not begin manufacturing those additional replica vehicle model(s) until the registration is either approved or deemed approved as specified under § 586.9.

(e) A registrant need not reapply annually if the registrant seeks to manufacture the same replica vehicles (make, model and model year) for which it received approval. The registrant must provide notification, by way of its annual report pursuant to § 586.12, of its intent to continue manufacturing covered replica vehicles.

§ 586.7 Timing for processing registrations.

Upon receipt of a registration submitted on vPIC, NHTSA will notify the registrant within 90 days, in writing which includes by email, whether the registration is approved or denied. If notification is not sent to the registrant within 90 days from NHTSA's receipt of the submission, the registration will be deemed approved pursuant to § 586.6(c) unless:

(a) NHTSA determines that the submission is incomplete. If NHTSA notifies the registrant, in writing which includes by email, within 90 days that the submission is incomplete, the manufacturer shall have 60 days to submit the missing information. If the manufacturer fails to submit additional information, the registration will be denied.

(1) Upon receipt of additional information, NHTSA shall have 30 days plus the remaining time of the initial 90 days to review and grant or deny the registration. For example, if NHTSA notifies the manufacturer that registration is incomplete on the 30th day, NHTSA shall have the remaining 60 days plus 30 days to review the registration upon receipt of additional information.

(2) A registration shall be denied if NHTSA requests additional information from the registrant necessary to complete the registration and the manufacturer does not submit information sufficient to complete the registration within 60 days.

(b) The submission is repetitious. A repetitious registration submission is one that relies on the same facts and circumstances as a previously denied registration.

§ 586.8 Deemed approved registrations.

(a) If a manufacturer believes that its registration is deemed approved by NHTSA's failure to approve or deny the registration pursuant to § 586.7, the manufacturer must obtain written confirmation from NHTSA that its registration is deemed approved. If NHTSA confirms that the registration is deemed approved, NHTSA shall include each deemed approved registrant's name on NHTSA's published list of registrants. If NHTSA cannot find any record of the registration submitted on vPIC, NHTSA will inform the manufacturer in writing that the registration has not been deemed approved.

(b) If NHTSA determines that a registration, deemed approved by a failure to approve or deny the registration within the allotted time, is incomplete or does not provide a basis for qualifying as a registrant, NHTSA may request additional information from the registrant, in writing which includes by email. A manufacturer shall have 60 days to respond to a request for additional information. If the manufacturer fails to respond within the 60 days or submits information that does not support qualification as a low-volume manufacturer of replica vehicles, NHTSA may revoke the registration.

§ 586.9 Updating existing registrations.

A registered replica manufacturer shall submit updated registration information prior to commencing manufacturer of a new model of replica vehicle or reallocating the number of replica vehicles to be made by two or more replica manufacturers under common ownership. The manufacturer shall submit updated registration information pursuant to § 586.6. The manufacturer may not begin producing the new model of replica vehicle or reallocate replica vehicles until its registration is either approved or deemed approved by NHTSA.

§ 586.10 Written notice.

Each replica motor vehicle manufacturer must provide the dealer and first retail purchaser the following information, either in the owner's manual or a separate document:

(a) A list of all current standards and regulations the vehicle would be required to comply with but with which it does not comply due to this exemption;

(b) The purpose statements of each such standard or regulation, as provided in Table 1 of this part.

§ 586.11 Temporary label.

The vehicle shall have a label attached to a location on the dashboard or the steering wheel hub that is clearly visible from all front seating positions. The label need not be permanently affixed to the vehicle. The label shall meet the following requirements:

(a) The label shall include a heading area in yellow with an alert symbol consisting of a solid black equilateral triangle with a yellow exclamation point and the word “WARNING” in black block capitals in a type size that is larger than that used in the remainder of the label and the alert symbol in black.

(b) The label shall include a message area in white with black text in at least 20-point font stating: “This vehicle is a replica motor vehicle and is exempt from complying with all current Federal motor vehicle safety standards that apply to motor vehicles, and with theft prevention and bumper standards in effect on the date of manufacture. [The expression “U.S.” or “U.S.A.” may be inserted before the word “Federal”.] See the certification label or consumer disclosure for more specific information.”

(c) The message area shall be no less than 30 cm² (4.7 in²).

§ 586.12 Annual report.

Each manufacturer of a replica motor vehicle shall furnish the following information to https://vpic.nhtsa.dot.gov/ no later than March 1 following the end of a calendar year in which the manufacturer produced at least 1 (one) replica motor vehicle:

(a) Full individual, partnership or corporate name of the manufacturer.

(b) Residence address of the manufacturer, phone number and email address.

(c) The calendar year for which the annual report is submitted (replica model year) and the total number of replica vehicles manufactured during that year.

(d) The complete Vehicle Identification Number (VIN) of each replica vehicle manufactured.

(e) List of the different versions of replica motor vehicles produced by make, model, and original model year of replicated vehicle.

(f) List of the FMVSS and regulations from which each version of replica vehicle (by make, model, and original model year of replicated vehicle) is exempt.

(g) Images of the front, rear, and side views of the original vehicle(s) replicated, of both the vehicle's exterior, and images of the same views of a representative replica manufactured to resemble each original vehicle.

(h) Information sufficient to establish that the replica motor vehicles, as manufactured, resemble the body of the original vehicle.

(i) State whether the replica vehicles contain any of the following vehicle safety features: (1) Front or side air bags;

(2) Lap or lap and shoulder belts;

(3) Advanced safety systems/passive safety systems (listed with locations);

(4) Electronic stability control;

(5) Rear visibility camera system; or

(6) Ejection mitigation.

(j) Notification to NHTSA if the registrant will be manufacturing the same replica motor vehicle(s) in the next calendar year and if so, how many vehicles it will be manufacturing. If the manufacturer intends to continue manufacturing replica motor vehicle(s), the manufacturer must also submit information sufficient to establish that their annual world-wide production, including by a parent or subsidiary of the manufacturer, if applicable, is not more than 5,000 motor vehicles, and a statement certifying to that effect, including the total number of motor vehicles produced by or on behalf of the registrant in the 12-month prior to filing the registration.

§ 586.13 Revocation of registrations.

NHTSA may require registrants to provide information at any time demonstrating compliance with the requirements of this part. NHTSA may revoke an existing registration or deny a registration based on a failure to comply with requirements of this part or a finding of a safety-related defect or unlawful conduct under 49 U.S.C. Chapter 301 et seq. that poses a significant safety risk. Prior to the revocation of the registration, NHTSA will provide the registrant a reasonable opportunity to correct deficiencies, if such are correctable, based on the sole discretion of NHTSA.

Tables to Part 586

Table 1—Purpose Statements for Inclusion in Consumer Disclosure
49 CFR 571.101; Controls and displays | The purpose of this standard is to ensure that motor vehicle controls, telltales, and indicators are accessible, visible, and recognizable. This is to help users select the proper controls under daytime and nighttime conditions to reduce safety hazards caused by the diversion of the driver's attention from the driving tasks, and mistakes in selecting controls.
49 CFR 571.102; Transmission shift position sequence, starter interlock, and transmission braking effect | The purpose of this standard is to specify the requirements for the transmission shift position sequence, a starter interlock, and for braking effect of automatic transmissions, to reduce the likelihood of shifting errors, to prevent starter engagement by the driver when the transmission is any driver position, and to provide supplemental braking at speeds below 40 kilometers per hour (25 miles per hour).
49 CFR 571.103; Windshield defrosting and defogging systems | The purpose of this standard is to specify requirements for windshield defrosting and defogging systems.
49 CFR 571.104; Windshield wiping and washing systems | The purpose of this standard is to specify requirements for windshield wiping and washing systems.
49 CFR 571.105; Hydraulic and electric brake systems | The purpose of this standard is to insure safe braking performance under normal and emergency conditions by specifying requirements for hydraulic and electric service brake systems, and associated parking brake systems.
49 CFR 571.106; Brake hoses | The purpose of this standard is to reduce deaths and injuries occurring as a result of brake system failure from pressure or vacuum loss due to hose or hose assembly rupture.
49 CFR 571.108; Lamps, reflective devices, and associated equipment | The purpose of this standard is to reduce traffic accidents and deaths and injuries resulting from traffic accidents, by providing adequate illumination of the roadway, and by enhancing the conspicuity of motor vehicles on the public roads so that their presence is perceived and their signals understood, both in daylight and in darkness or other conditions of reduced visibility.
49 CFR 571.110; Tire selection and rims and motor home/recreation vehicle trailer load carrying capacity information for motor vehicles with a GVWR of 4,536 kilograms (10,000 pounds) or less | The purpose of this standard is to specify requirements for tire selection to prevent tire overloading and motor home/recreation vehicle trailer load carrying capacity information.
49 CFR 571.111; Rear visibility | The purpose of this standard is to reduce the number of deaths and injuries that occur when the driver of a motor vehicle does not have a clear and reasonably unobstructed view to the rear.
49 CFR 571.113; Hood latch system | The purpose of this standard is to establish the requirement that each passenger car, multipurpose passenger car, truck and bus provides a hood latch system or hood latch systems.
49 CFR 571.114; Theft protection and rollaway prevention | The purpose of this standard is to decrease the likelihood that a vehicle is stolen or accidently set in motion.
49 CFR 571.116; Motor vehicle brake fluids | The purpose of this standard is to reduce failures in the hydraulic braking systems of motor vehicles which may occur because of the manufacture or use of improper or contaminated fluid.
49 CFR 571.118; Power-operated window, partition, and roof panel systems | The purpose of this standard is to minimize the likelihood of death or injury from accidental operation of power operated windows, partitions, and roof panel systems.
49 CFR 571.120; Tire selection and rims and motor home/recreation vehicle trailer load carrying capacity information for motor vehicles with a GVWR of more than 4,536 kilograms (10,000 pounds) | The purpose of this standard is to provide safe operational performance by ensuring that vehicles to which it applies are equipped with tires of adequate size and load rating and with rims of appropriate size and type designation and by ensuring that consumers are informed of motor home/recreation vehicle trailer load carrying capacity.
49 CFR 571.121; Air brake systems | The purpose of this standard is to ensure safe braking performance under normal and emergency conditions.
49 CFR 571.122; Motorcycle brake systems | The purpose of this standard is to ensure safe motorcycle braking performance under normal and emergency riding conditions.
49 CFR 571.122a; Motorcycle brake systems | The purpose of this standard is to ensure safe motorcycle braking performance under normal and emergency riding conditions.
49 CFR 571.123; Motorcycle controls and displays | The purpose of this standard is to minimize accidents caused by operator error in responding to the motoring environment, by standardizing certain motorcycle controls and displays.
49 CFR 571.124; Accelerator control systems | The purpose of this standard is to reduce deaths and injuries resulting from engine overspeed caused by malfunctions in the accelerator control system.
49 CFR 571.126; Electronic stability control systems | The purpose of this standard is to reduce the number of deaths and injuries that result from crashes in which the driver loses directional control of the vehicle, including those resulting in vehicle rollover.
49 CFR 571.131; School bus pedestrian safety devices | The purpose of this standard is to reduce deaths and injuries by minimizing the likelihood of vehicles passing a stopped school bus and striking pedestrians in the vicinity of the bus.
49 CFR 571.135; Light vehicle brake systems | The purpose of this standard is to ensure safe braking performance under normal and emergency driving conditions.
49 CFR 571.136; Electronic stability control systems for heavy vehicles | The purpose of this standard is to reduce crashes caused by rollover or by directional loss-of-control.
49 CFR 571.138; Tire pressure monitoring systems | The purpose of this standard is to specify performance requirements for tire pressure monitoring systems (TPMSs) to warn drivers of significant under-inflation of tires and the resulting safety problems.
49 CFR 571.141; Minimum Sound Requirements for Hybrid and Electric Vehicles | The purpose of this standard is to reduce the number of injuries that result from electric and hybrid vehicle crashes with pedestrians by providing a sound level and sound characteristics necessary for these vehicles to be detected and recognized by pedestrians.
49 CFR 571.201; Occupant protection in interior impact | The purpose of this standard is to require that vehicles provide impact protection to occupants.
49 CFR 571.202a; Head restraints; Mandatory applicability begins on September 1, 2009 | The purpose of this standard is to reduce the frequency and severity of neck injuries in rear-end and other collisions by specifying requirements for head restraints.
49 CFR 571.203; Impact protection for the driver from the steering control system | The purpose of this standard is to minimize chest, neck, and facial injuries to the driver as a result of impact with the steering control systems.
49 CFR 571.204; Steering control rearward placement | The purpose of this standard is to reduce the likelihood of chest, neck, or head injury by limiting the rearward displacement of the steering control into the passenger compartment.
49 CFR 571.205; Glazing materials | The purpose of this standard is to reduce injuries resulting from impact to glazing surfaces, to ensure a necessary degree of transparency in motor vehicle windows for driver visibility, and to minimize the possibility of occupants being thrown through the vehicle windows in collisions.
49 CFR 571.206; Door locks and door retention components | The purpose of this standard is to minimize the likelihood of occupants being rejected from the vehicle as a result of impact.
49 CFR 571.207; Seating systems | The purpose of this standards is to minimize the possibility of seat failure by forces acting on them as a result of vehicle impact.
49 CFR 571.208; Occupant crash protection | The purpose of this standard is to reduce the number of deaths of vehicle occupants, and the severity of injuries, by specifying vehicle crashworthiness requirements in terms of forces and accelerations measured on anthropomorphic dummies in test crashes, and specifying equipment requirements for active and passive restraint systems.
49 CFR 571.210; Seat belt assembly anchorages | The purpose of this standard is to reduce the likelihood that seat belts will become disconnected from the vehicle frame during impact by specifying the location and strength performance of seat belt assembly anchorages.
49 CFR 571.212; Windshield mounting | The purpose of this standard is to reduce crash injuries and fatalities by providing for retention of the vehicle windshield during a crash, thereby utilizing fully the penetration residence and injury-avoidance properties of the windshield glazing material and preventing the ejection of occupants from the vehicle.
49 CFR 571.213; Child restraint systems | The purpose of this standard is to reduce the number of children killed or injured in motor vehicle crashes and in aircraft.
49 CFR 571.214; Side impact protection | The purpose of this standard is to reduce the risk of serious and fatal injury to occupants, of passenger cars, multipurpose passenger vehicles, trucks, and buses in side impacts by specifying strength requirements for side doors, limiting the forces, deflections and accelerations measured on anthropomorphic dummies in test crashes, and by other means.
49 CFR 571.216; Roof crush resistance; Applicable unless a vehicle is certified to § 571.216a | The purpose of this standard is to reduce deaths and injuries due to the crushing of the roof into the occupant compartment in rollover crashes.
49 CFR 571.216a; Roof crush resistance; Upgraded standard | The purpose of this standard is to reduce deaths and injuries due to the crushing of the roof into the occupant compartment in rollover crashes.
49 CFR 571.217; Bus emergency exits and window retention and release | The purpose of this standard is to minimize the likelihood of occupants being thrown from the bus and to provide accessible emergency exits.
49 CFR 571.219; Windshield zone intrusion | The purpose of this standard is to reduce crash injuries and fatalities that result from occupants contacting vehicle components displaced near or through the windshield.
49 CFR 571.220; School bus rollover protection | The purpose of this standard is to reduce the number of deaths and the severity of injuries that result from failure of the school bus body structure to withstand forces encountered in rollover crashes.
49 CFR 571.221; School bus body joint strength | The purpose of this standard is to reduce deaths and injuries resulting from the structural collapse of school bus bodies during crashes.
49 CFR 571.222; School bus passenger seating and crash protection | The purpose of this standard is to reduce the number of deaths and the severity of injuries that result from the impact of school bus occupants against structures within the vehicle during crashes and sudden driving maneuvers.
49 CFR 571.224; Rear impact protection | The purpose of this standard is to reduce the number of deaths and serious injuries occurring when light duty vehicles impact the rear of trailers and semitrailers with a GVWR of 4,536 kg or more.
49 CFR 571.225; Child restraint anchorage systems | The purpose of this standard is to ensure the proper location and strength for the effective securing of child restraints, to reduce the likelihood of the anchorage systems' failure, and to increase the likelihood that child restraints are properly secured and thus more fully achieve their potential effectiveness in motor vehicles.
49 CFR 571.226; Ejection Mitigation | The purpose of this standard is to reduce the likelihood of complete or partial ejection of vehicle occupants through side windows during rollovers or side impact events.
49 CFR 571.301; Fuel system integrity | The purpose of this standard is to reduce deaths and injuries occurring from fires that result from fuel spillage during and after motor vehicle crashes, and resulting from ingestion of fuels during siphoning.
49 CFR 571.302; Flammability of interior materials | The purpose of this standard is to reduce the deaths and injuries to motor vehicle occupants caused by vehicle fires, especially those originating in the interior of the vehicle from sources such as matches or cigarettes.
49 CFR 571.303; Fuel system integrity of compressed natural gas vehicles | The purpose of this standard is to reduce deaths and injuries occurring from fires that result from fuel leakage during and after motor vehicle crashes.
49 CFR 571.304; Compressed natural gas fuel container integrity | The purpose of this standard is to reduce deaths and injuries occurring from fires that result from fuel leakage during and after motor vehicle crashes.
49 CFR 571.305; Electric-powered vehicles: Electrolyte spillage and electrical shock protection | The purpose of this standard is to reduce deaths and injuries during and after a crash that occurs because of electrolyte spillage from electric energy storage devices, intrusion of electric energy storage/conversion devices into the occupant compartment, and electrical shock.
49 CFR 571.401; Interior trunk release | The purpose of this standard is to require providing a trunk release mechanism that allows a person trapped inside the trunk compartment of a passenger to escape from the compartment.
49 CFR 571.404; Platform lift installations in motor vehicles | The purpose of this standard is to prevent injuries and fatalities to passengers and bystanders during the operation of platform lifts installed in motor vehicles.
49 CFR 571.500; Low-speed vehicles | The purpose of this standard is to ensure that low-speed vehicles operated on the public streets, roads, and highways are equipped with the minimum motor vehicle equipment appropriate for motor vehicle safety.

Issued in Washington, DC, on December 12, 2019.
Under authority delegated in 49 CFR part 1.95 and 49 CFR 501.4.
James Clayton Owens,
Acting Administrator.

[FR Doc. 2019-27211 Filed 1-6-20; 8:45 am]

BILLING CODE 4910-59-P